POSTAL SERVICE

Change in Rates and Classes of General Applicability for Competitive Products

AGENCY: Postal Service.

ACTION: Notice of a change in rates of general applicability for competitive products.

SUMMARY: This notice sets forth changes in rates of general applicability for competitive products.

DATES: Effective Date: January 2, 2011.

FOR FURTHER INFORMATION CONTACT: Daniel J. Foucheaux, Jr., 202-268-2989.

SUPPLEMENTARY INFORMATION: On October 19, 2010, pursuant to their authority under 39 U.S.C. 3632, the Governors of the Postal Service established prices and classification changes for competitive products. The Governors' Decision and the record of proceedings in connection with such decision are reprinted below in accordance with section 3632(b)(2).

Neva R. Watson,
Attorney, Legislative.

Decision of the Governors of the United States Postal Service on Changes in Rates and Classes of General Applicability for Competitive Products (Governors' Decision No. 10-4)

October 19, 2010

Statement of Explanation and Justification

Pursuant to our authority under section 3632 of title 39, as amended by the Postal Accountability and Enhancement Act of 2006 (“PAEA”), we establish new prices of general applicability for the Postal Service's shipping services (competitive products), and such changes in classifications as are necessary to define the new prices. The changes are described generally below, with a detailed description of the changes in the attachment. The attachment includes the draft Mail Classification Schedule sections with changes in classification language in legislative format, and new prices displayed in the price charts.

As shown in the nonpublic annex being filed under seal herewith, the changes we establish should enable each competitive product to cover its attributable costs (39 U.S.C. 3633(a)(2)) and should result in competitive products as a whole complying with 39 U.S.C. 3633(a)(3), which, as implemented by 39 CFR 3015.7(c), requires competitive products to contribute a minimum of 5.5 percent to the Postal Service's institutional costs. Accordingly, no issue of subsidization of competitive products by market dominant products should arise (39 U.S.C. 3633(a)(1)). We therefore find that the new prices and classification changes are in accordance with 39 U.S.C. 3632-3633 and 39 CFR 3015.2.

I. Domestic Products

A. Express Mail

Overall, the Express Mail price change represents a 4.6 percent increase. The existing structure of zoned Retail, Commercial Base and Commercial Plus price categories is maintained.

Retail prices will increase an average of 5.0 percent. The price for the Retail Flat Rate Envelope, a significant portion of all Express Mail volume, will remain the same at $18.30.

The Commercial Base price category offers lower prices to customers who use online and other authorized postage payment methods. The Commercial Base prices will remain the same.

The Commercial Plus price category offers even lower prices to large-volume customers. The threshold for Commercial Plus customers will be reduced from 6,000 to 5,000 Express Mail pieces in the previous four quarters. Commercial Plus prices will decrease on average by 5.0 percent.

B. Priority Mail

Overall, Priority Mail prices will increase by 3.5 percent. In addition to the existing Retail, Commercial Base, and Commercial Plus price categories, new price categories for the Regional Rate Box and Critical Mail are being introduced.

Retail prices will increase an average of 3.9 percent. Flat Rate Box prices will be: Small, $5.20; Medium, $10.95; Large, $14.95; and Large APO/FPO/DPO, $12.95. A new Legal Size Flat Rate Envelope and Padded Flat Rate Envelope will be offered, both priced at $4.95 at retail.

The Commercial Base price category offers lower prices to customers using online and other authorized postage payment methods. The average price increase for Commercial Base will be 3.2 percent.

The Commercial Plus price category offers even lower prices to large-volume customers. The threshold for Commercial Plus customers will be reduced from 100,000 to 75,000 Priority Mail parcel pieces (cumulative letters, flats, parcels) in the previous calendar year. The threshold for Commercial Plus customers will be reduced from 100,000 to 5,000 Priority Mail letter-size and flat-size pieces in the previous calendar year. This includes all USPS-produced Priority Mail envelopes (letters and flats) and customer-supplied envelopes (Letters and Flats) with the exception of the Padded Flat Rate Envelope. Customers who ship more than 600 Priority Mail Open and Distribute containers annually will also qualify for Commercial Plus. The average price increase for Commercial Plus will be 2.0 percent.

C. Parcel Select

On average, prices for Parcel Select, the Postal Service's bulk ground shipping product, will increase 4.4 percent. For destination entered parcels, the average price increases are 8.0 percent for parcels entered at a destination delivery unit (DDU), 0.2 percent for parcels entered at a destination plant (DSCF) and 0.6 percent for parcels entered at a destination Network Distribution Center (DNDC). For nondestination-entered parcels, the average price increases are 9.8 percent for origin Network Distribution Center (ONDC) presort, 7.7 percent for Network Distribution Center (NDC) presort, and 7.6 percent for barcoded nonpresort.

D. Parcel Return Service

Parcel Return Service prices will have an overall price increase of 3.1 percent. Prices will increase 0.9 percent for parcels picked up at a return Network Distribution Center (RNDC) and 8.0 percent for parcels picked up at a return delivery unit (RDU).

E. Domestic Extra Services

Premium Forwarding Service prices will increase 5.0 percent. The weekly reshipment fee will increase to $14.75. On average, Address Enhancement Service prices will increase 5.0 percent. The 49 Post Office Box locations recently added to the competitive product list are designated under a new fee group, C1.

II. International Products

A. Expedited Services

International expedited services include Global Express Guaranteed (GXG) and Express Mail International (EMI). Overall, GXG prices will rise by 3.7 percent, and EMI will be subject to an overall 3.1 percent increase. Classification changes include the introduction of postage payment via permit indicia for GXG, the introduction of a legal-sized Express Mail International Flat Rate Envelope, seven new country groups for EMI, and the elimination of Express Mail Corporate Account published discounts, as well as published discounts for users of Information-based Indicia (IBI) devices for both EMI and GXG. The elimination of the latter two services are necessary to create incentives for the use of electronic customs transmission. Return receipt service will also be eliminated as an option for EMI, as it is only available to a limited number of destinations. Finally, prices for EMI Flat Rate Envelopes would combine Mexico with the “All Other Countries” price tier.

B. Priority Mail International

The overall increase for Priority Mail International (PMI) will be 3.8 percent. The existing structure of PMI will remain the same. Classification changes include the introduction of several new flat rate options, seven new country price groups, and the elimination of published discounts for users of Information-based Indicia (IBI) devices.

C. International Priority Airmail and International Surface Air Lift

Published prices for the commercial international Shipping Services, which include International Priority Airmail (IPA) and International Surface Air Lift (ISAL), will have an overall increase of 4.4 percent, with IPA prices increasing by 3.3 percent, and ISAL prices increasing by 6.4 percent. Prices for IPA and ISAL M-Bags will remain the same.

D. Airmail M-Bags

The published prices for Airmail M-Bags will increase by 5.8 percent.

E. International Ancillary Services

Prices for paper money orders and EMI and PMI insurance will be increased. Classification changes include the elimination of the unique price tier for Canada when optional insurance is purchased for Priority Mail International parcels; previously, the fee for insurance to Canada was less. With this change, all insurance fees for Priority Mail International parcels will be the same.

Order

The changes in prices and classes set forth herein shall be effective at 12:01 a.m. on January 2, 2011. We direct the Secretary to have this decision published in the Federal Register in accordance with 39 U.S.C. 3632(b)(2). We also direct management to file with the Postal Regulatory Commission appropriate notice of these changes.

By The Governors.

Louis J. Giuliano,

Chairman.

MAIL CLASSIFICATION SCHEDULE

* * * * *

PART B COMPETITIVE PRODUCTS

* * * * *

2001 Competitive Product Descriptions

The product descriptions provided in this document include information necessary for maintaining the competitive product list pursuant to the Postal Accountability and Enhancement Act of 2006 (Pub. L. 109-435). For specific standards relating to postal products and services, including preparation and mailing requirements, please refer to the latest versions of the Domestic Mail Manual and the International Mail Manual, which are published and maintained by the United States Postal Service.

2100 DOMESTIC PRODUCTS

2105 Express Mail

2105.1 Description

a. Express Mail service provides a high speed, high reliability service. It is available from designated acceptance locations to designated postal facilities for delivery to the recipient, or, optionally, pickup by the recipient. Drop-off, pick-up, and delivery times are specified by the Postal Service for particular locations and days of the week. Delivery is either overnight, on the second day, or on the second delivery day (the next delivery day following the second day), for particular locations and days of the week.

b. Any matter eligible for mailing may, at the option of the mailer, be mailed by Express Mail service.

c. Claims for refunds of postage for not meeting applicable standards must be filed within the period of time and under terms and conditions specified in the Domestic Mail Manual.

d. Express Mail pieces are sealed against postal inspection and shall not be opened except as authorized by law.

e. Express Mail pieces that are undeliverable-as-addressed are entitled to be forwarded or returned to the sender without additional charge.

f. Insurance, up to $100.00, is included in Express Mail postage. Additional insurance (Express Mail Insurance) is available for an additional charge, depending on the value and nature of the item sent by Express Mail service.

2105.2 Size and Weight Limitations

| Length | Height | Thickness | Weight
Minimum | Large enough to accommodate postage, address, and other required elements on the address side |  |  | None
Maximum | 108 inches in combined length and girth |  |  | 70 pounds
Flat Rate Envelopes | Nominal Sizes:
| REGULAR: 9.5 x 12.5 inches
| LEGAL: 9.5 x 15.0 inches |  |  |

2105.3 Minimum Volume Requirements

| Minimum volume requirements
Express Mail | None

2105.4 Price Categories

• Retail

○ Zone/Weight—Prices are based on weight and zone

○ Flat Rate Envelopes—Provided or approved by the Postal Service

• Commercial Base—Prices are available to customers who use specifically authorized postage payment methods. (Same definitions as Retail apply to price categories below.)

○ Zone/Weight

○ Flat Rate Envelopes

2105.5 Optional Features

The following additional postal services may be available in conjunction with the product specified in this section:

• Pickup On Demand

• Ancillary Services (1505)

○ Address Correction Service (1505.1)

○ Collect On Delivery (1505.7)

○ Express Mail Insurance (1505.9)

○ Return Receipt (1505.13)

2105.6 Prices

Retail Zone/Weight

Weight not over (pounds) | Zones 1 & 2 ($) | Zone 3 ($) | Zone 4 ($) | Zone 5 ($) | Zone 6 ($) | Zone 7 ($) | Zone 8 ($)
0.5 | 13.25 | 16.15 | 19.75 | 21.35 | 24.25 | 25.15 | 26.65
1 | 15.25 | 21.05 | 25.20 | 26.10 | 29.75 | 30.15 | 31.60
2 | 16.55 | 22.20 | 27.70 | 28.60 | 32.55 | 32.80 | 34.70
3 | 17.60 | 23.55 | 31.85 | 32.95 | 37.50 | 37.75 | 39.75
4 | 18.90 | 25.10 | 36.05 | 37.70 | 42.30 | 42.45 | 44.70
5 | 19.60 | 26.80 | 40.10 | 42.05 | 47.05 | 47.30 | 49.70
6 | 22.95 | 32.25 | 43.85 | 46.20 | 51.70 | 51.95 | 54.85
7 | 26.35 | 37.60 | 47.95 | 49.85 | 56.50 | 56.85 | 59.65
8 | 27.65 | 38.75 | 51.65 | 54.15 | 61.40 | 61.65 | 64.80
9 | 29.15 | 40.35 | 55.25 | 58.45 | 66.15 | 66.40 | 69.80
10 | 30.10 | 42.05 | 57.80 | 61.30 | 69.55 | 69.75 | 73.30
11 | 32.85 | 47.00 | 61.80 | 64.30 | 72.90 | 73.10 | 76.80
12 | 33.45 | 50.35 | 65.05 | 67.25 | 76.25 | 76.40 | 80.20
13 | 33.90 | 53.55 | 68.05 | 70.15 | 79.45 | 80.40 | 84.85
14 | 35.00 | 56.85 | 70.75 | 73.10 | 82.75 | 83.85 | 88.40
15 | 37.05 | 60.05 | 73.75 | 76.10 | 86.15 | 87.00 | 91.90
16 | 38.05 | 63.45 | 76.65 | 79.15 | 89.85 | 89.95 | 94.10
17 | 40.20 | 66.75 | 79.55 | 81.95 | 92.85 | 93.05 | 97.65
18 | 42.30 | 69.90 | 82.35 | 85.00 | 96.15 | 96.45 | 101.10
19 | 43.45 | 73.20 | 85.20 | 87.90 | 99.45 | 99.65 | 104.50
20 | 45.45 | 76.55 | 89.40 | 91.60 | 103.35 | 103.95 | 109.20
21 | 46.75 | 81.30 | 92.20 | 94.35 | 107.90 | 108.30 | 113.25
22 | 48.85 | 84.70 | 96.25 | 98.70 | 111.30 | 111.65 | 117.60
23 | 49.90 | 87.95 | 99.10 | 101.75 | 114.70 | 114.95 | 121.05
24 | 52.00 | 91.30 | 102.30 | 104.65 | 118.20 | 118.30 | 123.70
25 | 54.25 | 94.70 | 104.75 | 107.65 | 121.40 | 121.70 | 127.60
26 | 55.25 | 98.10 | 107.80 | 110.70 | 124.80 | 125.15 | 131.20
27 | 57.30 | 101.30 | 110.60 | 113.55 | 128.10 | 128.50 | 134.65
28 | 58.40 | 104.70 | 114.15 | 116.55 | 131.45 | 131.80 | 138.20
29 | 60.55 | 108.00 | 117.90 | 119.55 | 134.80 | 135.20 | 141.55
30 | 62.70 | 111.35 | 121.60 | 123.10 | 138.70 | 139.10 | 146.10
31 | 63.70 | 114.65 | 125.30 | 126.85 | 143.10 | 143.45 | 150.70
32 | 65.80 | 118.15 | 129.00 | 130.75 | 147.30 | 147.65 | 155.20
33 | 66.90 | 121.45 | 132.75 | 134.45 | 151.55 | 151.90 | 159.60
34 | 69.05 | 124.65 | 136.55 | 138.20 | 155.75 | 156.10 | 164.10
35 | 70.15 | 128.05 | 140.15 | 142.05 | 159.95 | 160.45 | 168.55
36 | 72.20 | 131.45 | 143.95 | 145.75 | 164.35 | 164.70 | 173.10
37 | 74.30 | 134.70 | 147.65 | 149.60 | 168.65 | 169.00 | 177.60
38 | 75.40 | 138.10 | 151.40 | 153.45 | 172.85 | 173.20 | 182.05
39 | 77.50 | 141.50 | 155.15 | 157.15 | 176.90 | 177.35 | 186.55
40 | 78.50 | 144.70 | 158.95 | 160.90 | 181.20 | 181.70 | 191.10
41 | 80.65 | 148.10 | 162.65 | 164.75 | 185.60 | 185.85 | 195.55
42 | 82.75 | 151.50 | 166.35 | 168.50 | 189.95 | 190.20 | 200.05
43 | 83.90 | 154.75 | 170.05 | 172.40 | 194.15 | 194.50 | 204.55
44 | 85.95 | 158.15 | 173.80 | 176.15 | 198.40 | 198.75 | 209.00
45 | 87.10 | 161.55 | 177.45 | 179.85 | 202.60 | 202.95 | 213.55
46 | 89.20 | 164.75 | 181.35 | 183.60 | 206.80 | 207.20 | 218.05
47 | 90.25 | 168.15 | 185.05 | 187.50 | 211.10 | 211.45 | 222.50
48 | 92.30 | 171.55 | 188.70 | 191.20 | 215.40 | 215.75 | 227.00
49 | 94.45 | 174.80 | 192.45 | 194.95 | 219.75 | 219.95 | 231.50
50 | 95.55 | 178.20 | 196.25 | 198.80 | 223.85 | 224.20 | 236.00
51 | 97.65 | 181.60 | 199.95 | 202.55 | 228.05 | 228.45 | 240.50
52 | 98.75 | 184.80 | 203.65 | 206.45 | 232.45 | 232.80 | 245.05
53 | 100.90 | 188.20 | 207.40 | 210.05 | 236.70 | 236.90 | 249.50
54 | 103.05 | 191.60 | 211.10 | 213.90 | 241.00 | 241.25 | 254.00
55 | 104.05 | 196.00 | 214.95 | 217.65 | 245.20 | 245.50 | 258.45
56 | 106.15 | 199.40 | 218.60 | 221.55 | 249.45 | 249.70 | 262.95
57 | 107.25 | 202.80 | 222.35 | 225.30 | 253.65 | 254.05 | 267.45
58 | 109.25 | 206.00 | 226.05 | 229.05 | 257.95 | 258.20 | 271.95
59 | 110.50 | 209.30 | 229.75 | 232.85 | 262.30 | 262.50 | 276.45
60 | 112.50 | 212.70 | 233.50 | 236.60 | 266.50 | 266.80 | 280.90
61 | 114.65 | 216.10 | 237.35 | 240.55 | 270.75 | 271.10 | 285.40
62 | 115.75 | 219.35 | 241.00 | 244.15 | 274.95 | 275.35 | 289.95
63 | 117.85 | 222.70 | 244.70 | 248.00 | 279.30 | 279.55 | 294.50
64 | 118.85 | 226.00 | 248.45 | 251.75 | 283.55 | 283.80 | 299.00
65 | 121.00 | 229.35 | 252.10 | 255.45 | 287.75 | 288.10 | 303.40
66 | 123.20 | 232.75 | 256.00 | 259.35 | 292.05 | 292.40 | 307.80
67 | 124.25 | 236.05 | 259.70 | 263.05 | 296.20 | 296.60 | 312.40
68 | 126.30 | 239.40 | 263.40 | 266.95 | 300.60 | 300.90 | 317.00
69 | 127.30 | 242.75 | 267.10 | 270.70 | 304.75 | 305.05 | 321.30
70 | 129.50 | 246.15 | 270.90 | 274.40 | 309.05 | 309.25 | 325.80

Retail Flat Rate Envelopes

| ($)
Retail Flat Rate Envelope, per piece | 18.30
Retail Legal Flat Rate Envelope, per piece | 18.30

Commercial Base Zone/Weight

Weight not over (pounds) | Zones 1 & 2 ($) | Zone 3 ($) | Zone 4 ($) | Zone 5 ($) | Zone 6 ($) | Zone 7 ($) | Zone 8 ($)
0.5 | 12.96 | 15.09 | 18.37 | 19.66 | 19.96 | 20.75 | 21.05
1 | 14.89 | 19.66 | 23.43 | 24.02 | 24.53 | 24.87 | 24.97
2 | 16.19 | 20.75 | 25.76 | 26.35 | 26.86 | 27.06 | 27.45
3 | 17.18 | 22.04 | 29.64 | 30.33 | 30.92 | 31.12 | 31.42
4 | 18.47 | 23.43 | 33.50 | 34.75 | 34.89 | 35.05 | 35.34
5 | 19.17 | 25.07 | 37.33 | 38.72 | 38.82 | 39.02 | 39.31
6 | 22.44 | 30.13 | 40.81 | 42.59 | 42.69 | 42.89 | 43.39
7 | 25.76 | 35.14 | 44.62 | 45.92 | 46.61 | 46.91 | 47.20
8 | 27.06 | 36.24 | 48.05 | 49.89 | 50.68 | 50.88 | 51.28
9 | 28.54 | 37.72 | 51.42 | 53.86 | 54.60 | 54.80 | 55.20
10 | 29.44 | 39.31 | 53.81 | 56.49 | 57.38 | 57.58 | 57.98
11 | 32.11 | 43.98 | 57.49 | 59.27 | 60.16 | 60.36 | 60.76
12 | 32.71 | 47.11 | 60.56 | 61.95 | 62.94 | 63.04 | 63.44
13 | 33.11 | 50.09 | 63.34 | 64.68 | 65.57 | 66.37 | 67.16
14 | 34.20 | 53.16 | 65.87 | 67.36 | 68.35 | 69.24 | 69.94
15 | 36.24 | 56.19 | 68.65 | 70.14 | 71.13 | 71.82 | 72.72
16 | 37.23 | 59.37 | 71.33 | 72.92 | 74.16 | 74.26 | 74.46
17 | 39.31 | 62.45 | 74.01 | 75.55 | 76.64 | 76.84 | 77.24
18 | 41.40 | 65.38 | 76.64 | 78.33 | 79.42 | 79.62 | 80.02
19 | 42.49 | 68.45 | 79.33 | 81.01 | 82.11 | 82.30 | 82.70
20 | 44.48 | 71.62 | 83.19 | 84.44 | 85.32 | 85.83 | 86.42
21 | 45.72 | 76.04 | 85.83 | 87.02 | 89.10 | 89.40 | 89.60
22 | 47.80 | 79.22 | 89.60 | 90.99 | 91.88 | 92.18 | 93.07
23 | 48.79 | 82.30 | 92.27 | 93.77 | 94.71 | 94.91 | 95.81
24 | 50.88 | 85.43 | 95.21 | 96.50 | 97.59 | 97.69 | 97.89
25 | 53.07 | 88.61 | 97.49 | 99.28 | 100.27 | 100.47 | 100.97
26 | 54.06 | 91.78 | 100.37 | 102.05 | 103.05 | 103.35 | 103.79
27 | 56.10 | 94.81 | 102.95 | 104.69 | 105.77 | 106.08 | 106.57
28 | 57.18 | 97.99 | 106.28 | 107.47 | 108.55 | 108.86 | 109.35
29 | 59.27 | 101.06 | 109.75 | 110.25 | 111.33 | 111.64 | 112.03
30 | 61.35 | 104.19 | 113.23 | 113.52 | 114.56 | 114.87 | 115.66
31 | 62.34 | 107.27 | 116.65 | 116.95 | 118.14 | 118.44 | 119.23
32 | 64.38 | 110.54 | 120.12 | 120.52 | 121.62 | 121.91 | 122.81
33 | 65.47 | 113.62 | 123.55 | 123.95 | 125.14 | 125.43 | 126.33
34 | 67.56 | 116.65 | 127.12 | 127.42 | 128.61 | 128.91 | 129.90
35 | 68.65 | 119.83 | 130.50 | 130.99 | 132.09 | 132.49 | 133.43
36 | 70.63 | 123.01 | 134.02 | 134.42 | 135.71 | 136.01 | 137.00
37 | 72.72 | 126.03 | 137.50 | 137.90 | 139.29 | 139.58 | 140.57
38 | 73.81 | 129.20 | 140.97 | 141.47 | 142.76 | 143.06 | 144.10
39 | 75.85 | 132.38 | 144.49 | 144.89 | 146.08 | 146.48 | 147.67
40 | 76.84 | 135.41 | 147.97 | 148.37 | 149.65 | 150.05 | 151.24
41 | 78.93 | 138.59 | 151.44 | 151.94 | 153.28 | 153.48 | 154.77
42 | 81.01 | 141.76 | 154.87 | 155.37 | 156.85 | 157.05 | 158.35
43 | 82.11 | 144.80 | 158.35 | 158.94 | 160.33 | 160.63 | 161.92
44 | 84.13 | 147.97 | 161.82 | 162.41 | 163.86 | 164.15 | 165.44
45 | 85.23 | 151.15 | 165.25 | 165.84 | 167.33 | 167.63 | 169.02
46 | 87.31 | 154.18 | 168.82 | 169.31 | 170.81 | 171.10 | 172.59
47 | 88.30 | 157.36 | 172.29 | 172.88 | 174.33 | 174.63 | 176.11
48 | 90.39 | 160.53 | 175.72 | 176.31 | 177.90 | 178.20 | 179.69
49 | 92.47 | 163.55 | 179.20 | 179.79 | 181.47 | 181.67 | 183.21
50 | 93.57 | 166.73 | 182.77 | 183.31 | 184.90 | 185.19 | 186.78
51 | 95.61 | 169.91 | 186.19 | 186.78 | 188.37 | 188.67 | 190.36
52 | 96.69 | 172.94 | 189.67 | 190.36 | 191.95 | 192.25 | 193.98
53 | 98.78 | 176.11 | 193.10 | 193.69 | 195.48 | 195.68 | 197.46
54 | 100.86 | 179.29 | 196.56 | 197.26 | 199.05 | 199.25 | 201.04
55 | 101.86 | 183.41 | 200.14 | 200.73 | 202.52 | 202.77 | 204.56
56 | 103.89 | 186.58 | 203.57 | 204.26 | 206.04 | 206.24 | 208.13
57 | 104.98 | 189.76 | 207.04 | 207.74 | 209.52 | 209.82 | 211.71
58 | 106.97 | 192.79 | 210.52 | 211.20 | 213.04 | 213.24 | 215.23
59 | 108.16 | 195.87 | 213.94 | 214.74 | 216.62 | 216.82 | 218.80
60 | 110.14 | 199.05 | 217.41 | 218.21 | 220.10 | 220.39 | 222.32
61 | 112.23 | 202.23 | 220.99 | 221.78 | 223.62 | 223.91 | 225.90
62 | 113.32 | 205.25 | 224.41 | 225.10 | 227.09 | 227.39 | 229.47
63 | 115.36 | 208.43 | 227.88 | 228.68 | 230.66 | 230.86 | 233.10
64 | 116.35 | 211.51 | 231.36 | 232.16 | 234.19 | 234.39 | 236.67
65 | 118.44 | 214.63 | 234.79 | 235.58 | 237.66 | 237.97 | 240.15
66 | 120.62 | 217.81 | 238.36 | 239.16 | 241.24 | 241.54 | 243.67
67 | 121.62 | 220.89 | 241.83 | 242.58 | 244.67 | 244.96 | 247.25
68 | 123.64 | 224.02 | 245.26 | 246.15 | 248.24 | 248.53 | 250.91
69 | 124.64 | 227.19 | 248.73 | 249.63 | 251.71 | 251.96 | 254.34
70 | 126.82 | 230.37 | 252.26 | 253.06 | 255.24 | 255.44 | 257.92

Commercial Base Flat Rate Envelopes

| ($)
Commercial Base Flat Rate Envelope, per piece | 17.40
Commercial Base Legal Flat Rate Envelope, per piece | 17.40

Commercial Plus Zone/Weight

Weight not over (pounds) | Zones 1 & 2 ($) | Zone 3 ($) | Zone 4 ($) | Zone 5 ($) | Zone 6 ($) | Zone 7 ($) | Zone 8 ($)
0.5 | 11.08 | 12.91 | 15.71 | 16.81 | 17.07 | 17.74 | 18.00
1 | 12.74 | 16.81 | 20.03 | 20.54 | 20.97 | 21.26 | 21.34
2 | 13.84 | 17.74 | 22.03 | 22.54 | 22.96 | 23.13 | 23.47
3 | 14.68 | 18.84 | 25.33 | 25.93 | 26.44 | 26.61 | 26.86
4 | 15.78 | 20.03 | 28.65 | 29.71 | 29.83 | 29.96 | 30.22
5 | 16.38 | 21.43 | 31.92 | 33.11 | 33.19 | 33.36 | 33.61
6 | 19.18 | 25.76 | 34.89 | 36.41 | 36.50 | 36.67 | 37.09
7 | 22.03 | 30.05 | 38.15 | 39.25 | 39.85 | 40.11 | 40.37
8 | 23.13 | 30.98 | 41.08 | 42.65 | 43.33 | 43.50 | 43.84
9 | 24.40 | 32.25 | 43.97 | 46.04 | 46.69 | 46.86 | 47.20
10 | 25.17 | 33.61 | 46.00 | 48.30 | 49.06 | 49.23 | 49.57
11 | 27.46 | 37.61 | 49.14 | 50.67 | 51.43 | 51.60 | 51.95
12 | 27.97 | 40.28 | 51.78 | 52.96 | 53.82 | 53.90 | 54.23
13 | 28.30 | 42.82 | 54.15 | 55.30 | 56.06 | 56.75 | 57.42
14 | 29.24 | 45.46 | 56.32 | 57.59 | 58.44 | 59.21 | 59.79
15 | 30.98 | 48.04 | 58.69 | 59.97 | 60.82 | 61.41 | 62.18
16 | 31.83 | 50.76 | 60.98 | 62.34 | 63.41 | 63.49 | 63.67
17 | 33.61 | 53.39 | 63.28 | 64.60 | 65.53 | 65.70 | 66.04
18 | 35.39 | 55.89 | 65.53 | 66.97 | 67.90 | 68.07 | 68.41
19 | 36.32 | 58.52 | 67.81 | 69.26 | 70.20 | 70.37 | 70.70
20 | 38.02 | 61.24 | 71.13 | 72.19 | 72.96 | 73.37 | 73.89
21 | 39.08 | 65.02 | 73.37 | 74.40 | 76.18 | 76.43 | 76.60
22 | 40.87 | 67.74 | 76.60 | 77.79 | 78.56 | 78.81 | 79.58
23 | 41.72 | 70.37 | 78.89 | 80.16 | 80.98 | 81.15 | 81.91
24 | 43.50 | 73.04 | 81.40 | 82.51 | 83.44 | 83.52 | 83.69
25 | 45.37 | 75.76 | 83.35 | 84.88 | 85.73 | 85.90 | 86.32
26 | 46.21 | 78.47 | 85.81 | 87.25 | 88.11 | 88.36 | 88.74
27 | 47.96 | 81.06 | 88.02 | 89.51 | 90.44 | 90.70 | 91.11
28 | 48.89 | 83.78 | 90.87 | 91.88 | 92.81 | 93.07 | 93.50
29 | 50.67 | 86.41 | 93.83 | 94.26 | 95.19 | 95.44 | 95.79
30 | 52.46 | 89.08 | 96.80 | 97.06 | 97.95 | 98.20 | 98.89
31 | 53.30 | 91.71 | 99.73 | 99.99 | 101.01 | 101.26 | 101.95
32 | 55.05 | 94.51 | 102.71 | 103.05 | 103.98 | 104.23 | 104.99
33 | 55.98 | 97.14 | 105.63 | 105.98 | 106.99 | 107.25 | 108.01
34 | 57.76 | 99.73 | 108.69 | 108.94 | 109.97 | 110.22 | 111.07
35 | 58.69 | 102.45 | 111.58 | 112.00 | 112.94 | 113.27 | 114.08
36 | 60.39 | 105.16 | 114.59 | 114.93 | 116.03 | 116.29 | 117.13
37 | 62.18 | 107.75 | 117.56 | 117.90 | 119.09 | 119.34 | 120.19
38 | 63.11 | 110.47 | 120.53 | 120.96 | 122.06 | 122.32 | 123.20
39 | 64.85 | 113.18 | 123.55 | 123.89 | 124.90 | 125.25 | 126.26
40 | 65.70 | 115.77 | 126.52 | 126.85 | 127.96 | 128.29 | 129.32
41 | 67.48 | 118.49 | 129.48 | 129.91 | 131.05 | 131.22 | 132.32
42 | 69.26 | 121.20 | 132.41 | 132.84 | 134.11 | 134.28 | 135.38
43 | 70.20 | 123.80 | 135.38 | 135.90 | 137.08 | 137.34 | 138.44
44 | 71.93 | 126.52 | 138.36 | 138.87 | 140.10 | 140.35 | 141.46
45 | 72.87 | 129.23 | 141.28 | 141.79 | 143.07 | 143.32 | 144.50
46 | 74.65 | 131.82 | 144.34 | 144.76 | 146.03 | 146.29 | 147.56
47 | 75.50 | 134.54 | 147.31 | 147.82 | 149.05 | 149.30 | 150.58
48 | 77.29 | 137.25 | 150.24 | 150.75 | 152.11 | 152.36 | 153.64
49 | 79.06 | 139.84 | 153.21 | 153.72 | 155.16 | 155.34 | 156.65
50 | 80.00 | 142.56 | 156.27 | 156.74 | 158.09 | 158.34 | 159.70
51 | 81.74 | 145.27 | 159.20 | 159.70 | 161.06 | 161.31 | 162.76
52 | 82.68 | 147.86 | 162.17 | 162.76 | 164.11 | 164.37 | 165.86
53 | 84.45 | 150.58 | 165.09 | 165.60 | 167.13 | 167.30 | 168.83
54 | 86.24 | 153.29 | 168.06 | 168.66 | 170.19 | 170.36 | 171.88
55 | 87.08 | 156.81 | 171.12 | 171.63 | 173.16 | 173.36 | 174.89
56 | 88.83 | 159.53 | 174.05 | 174.64 | 176.17 | 176.34 | 177.95
57 | 89.76 | 162.25 | 177.02 | 177.61 | 179.14 | 179.39 | 181.01
58 | 91.46 | 164.84 | 179.99 | 180.58 | 182.15 | 182.32 | 184.02
59 | 92.47 | 167.47 | 182.91 | 183.60 | 185.21 | 185.38 | 187.07
60 | 94.17 | 170.19 | 185.89 | 186.57 | 188.18 | 188.43 | 190.09
61 | 95.96 | 172.90 | 188.94 | 189.63 | 191.19 | 191.45 | 193.15
62 | 96.89 | 175.49 | 191.87 | 192.46 | 194.16 | 194.42 | 196.20
63 | 98.63 | 178.21 | 194.85 | 195.52 | 197.22 | 197.39 | 199.29
64 | 99.48 | 180.84 | 197.82 | 198.49 | 200.23 | 200.41 | 202.35
65 | 101.26 | 183.51 | 200.74 | 201.42 | 203.21 | 203.45 | 205.32
66 | 103.13 | 186.23 | 203.80 | 204.48 | 206.26 | 206.51 | 208.34
67 | 103.98 | 188.86 | 206.77 | 207.41 | 209.18 | 209.44 | 211.40
68 | 105.72 | 191.53 | 209.70 | 210.46 | 212.24 | 212.50 | 214.53
69 | 106.57 | 194.25 | 212.67 | 213.43 | 215.22 | 215.43 | 217.46
70 | 108.44 | 196.96 | 215.68 | 216.36 | 218.23 | 218.40 | 220.52

Commercial Plus Flat Rate Envelopes

| ($)
Commercial Plus Flat Rate Envelope, per piece | 12.72
Commercial Plus Legal Flat Rate Envelope, per piece | 12.72

Pickup On Demand

Add $15.30 for each Pickup On Demand stop.

Sunday/Holiday Delivery

Add $12.50 for requesting Sunday or holiday delivery.

2110 Priority Mail

2110.1 Description

a. Priority Mail service provides expeditious handling and transportation.

b. Any matter eligible for mailing may, at the option of the mailer, be mailed by Priority Mail service for expeditious handling and transportation.

b. Matter containing personal information, partially or wholly handwritten or typewritten matter, or bills or statements of account must be mailed as Priority Mail pieces if they exceed the weight limit set by the Postal Service for First-Class Mail, unless mailed by Express Mail service, exempt under title 39, United States Code, or are otherwise exempted by the Postal Service.

c. Priority Mail pieces are sealed against postal inspection and shall not be opened except as authorized by law.

d. Priority Mail pieces that are undeliverable-as-addressed are entitled to be forwarded or returned to the sender without additional charge.

2110.2 Size and Weight Limitations

| Length | Height | Thickness | Weight
Minimum | Large enough to accommodate postage, address, and other required elements on the address side |  |  | None
Maximum | Commercial Plus Cubic: ½ cubic foot |  |  | Commercial Plus Cubic: 20 pounds
| Regional Rate Box A
| (outside dimensions): |  |  | Regional Rate Box A: 15 pounds
| Top Loaded: 10-⅛ × 7- ⅛ × 5 inches
| Side Loaded: 13-1/16 × 11-1/16 2-½ inches
| Regional Rate Box B
| (outside dimensions): |  |  | Regional Rate Box B: 20 pounds
| Top Loaded: 12-¼ × 10-½ × 5-½ inches
| Side Loaded: 16-¼ × 14-½ × 3 inches
| All Other: 108 inches in combined length and girth |  |  | All Other: 70 pounds
Flat Rate Envelopes | Nominal Sizes:
| REGULAR: 9.5 × 12.5 inches
| PADDED: 10 × 13 inches
| LEGAL: 9.5 × 15.0 inches
Flat Rate Boxes | Nominal Sizes:
| LARGE: 12.25 × 12.25 × 6.0 inches—approx. ½ cu. ft.
| MEDIUM: 11.875 × 3.375 × 13.625 inches
| or 11 × 8.5 × 5.5 inches
| —approx. ⅓ cu. ft.
| SMALL: 8.625 × 5.375 × 1.625 inches—approx. 1/20 cu. ft.

2110.3 Minimum Volume Requirements

| Minimum volume requirements
Commercial Plus Cubic | 50 lbs or 200 pieces
All Other Priority Mail | None

2110.4 Price Categories

The following price categories are available for the product specified in this section:

• Retail

○ Zone/Weight—Prices are based on weight and zone.

○ Flat Rate Boxes—Provided or approved by the Postal Service.

○ Flat Rate Envelopes—Provided or approved by the Postal Service

○ Balloon Rate—Applies to parcels in zones local through 4. weighing less than 20 pounds and measuring between 84 and 108 inches in combined length and girth.

○ Dimensional Weight—Applies to parcels in zones 5 through 8 that exceed one cubic foot.

• Commercial Base—Prices are available to customers who use specifically authorized postage payment methods. (Same definitions as retail apply to price categories below.)

○ Zone/Weight

○ Flat Rate Boxes

○ Flat Rate Envelopes

○ Balloon Rate

○ Dimensional Weight

○ Regional Rate Boxes

○ Zone/Weight

○ Flat Rate Boxes

○ Flat Rate Envelopes

○ Balloon Rate

○ Dimensional Weight

○ Critical Mail—Prices are available to Commercial Plus customers who use specifically authorized postage payment methods and whose annual Priority Mail volume exceeds 5,000 pieces.

○ Regional Rate Boxes

• Commercial Plus Cubic—Prices are available to customers who use specifically authorized postage payment methods and whose annual Priority Mail volume exceeds 250,000 pieces.

○ Zone/Cubic Volume

2110.5 Optional Features

The following additional postal services may be available in conjunction with the product specified in this section:

• Pickup On Demand

• Ancillary Services (1505)

○ Address Correction Service (1505.1)

○ Business Reply Mail (1505.3)

○ Certificate of Mailing (1505.6)

○ Collect On Delivery (1505.7)

○ Delivery Confirmation (1505.8)

○ Insurance (1505.9)

○ Merchandise Return (1505.10)

○ Registered Mail (1505.12)

○ Return Receipt (1505.13)

○ Return Receipt for Merchandise (1505.14)

○ Restricted Delivery (1505.15)

○ Signature Confirmation (1505.17)

○ Special Handling (1505.18)

2110.6 Prices

Retail Priority Mail Zone/Weight

Weight not over (pounds) | Local, zones 1 & 2 ($) | Zone 3 ($) | Zone 4 ($) | Zone 5 ($) | Zone 6 ($) | Zone 7 ($) | Zone 8 ($)
1 | 5.10 | 5.15 | 5.25 | 5.35 | 5.45 | 5.60 | 5.95
2 | 5.20 | 5.55 | 6.20 | 7.90 | 8.60 | 9.15 | 10.20
3 | 5.95 | 6.80 | 7.80 | 9.35 | 10.35 | 11.15 | 13.20
4 | 6.70 | 7.85 | 8.95 | 12.40 | 13.50 | 14.35 | 15.90
5 | 7.95 | 9.10 | 10.25 | 14.05 | 15.45 | 16.50 | 18.35
6 | 8.75 | 10.05 | 11.50 | 15.65 | 17.30 | 18.50 | 20.70
7 | 9.30 | 10.95 | 12.40 | 17.45 | 19.15 | 20.85 | 23.30
8 | 10.00 | 11.90 | 13.85 | 18.95 | 21.00 | 22.95 | 26.10
9 | 10.65 | 12.85 | 15.00 | 20.55 | 22.90 | 24.90 | 29.05
10 | 11.35 | 13.80 | 16.35 | 22.20 | 24.70 | 27.35 | 31.60
11 | 12.15 | 14.75 | 17.60 | 23.95 | 26.55 | 30.20 | 34.70
12 | 13.00 | 15.80 | 18.90 | 25.70 | 28.85 | 32.65 | 37.30
13 | 13.80 | 16.80 | 19.95 | 27.20 | 30.95 | 33.95 | 38.60
14 | 14.60 | 17.80 | 21.15 | 28.90 | 32.65 | 35.90 | 40.50
15 | 15.25 | 18.80 | 22.35 | 30.60 | 34.10 | 36.65 | 41.65
16 | 15.70 | 19.80 | 23.55 | 32.25 | 36.00 | 38.70 | 44.00
17 | 16.30 | 20.80 | 24.80 | 33.95 | 37.85 | 40.70 | 46.35
18 | 16.60 | 21.50 | 26.00 | 35.60 | 39.80 | 42.75 | 48.65
19 | 17.10 | 21.95 | 26.50 | 36.55 | 41.65 | 44.75 | 50.95
20 | 17.80 | 22.25 | 27.00 | 37.20 | 42.70 | 46.40 | 53.30
21 | 18.40 | 22.55 | 27.40 | 37.80 | 43.35 | 47.15 | 54.50
22 | 18.80 | 23.05 | 27.85 | 38.65 | 44.35 | 48.30 | 55.85
23 | 19.25 | 23.50 | 28.65 | 39.30 | 45.15 | 49.10 | 56.85
24 | 19.70 | 24.00 | 29.55 | 40.15 | 46.05 | 50.25 | 58.25
25 | 20.15 | 24.40 | 30.45 | 40.80 | 46.75 | 51.00 | 59.25
26 | 20.55 | 24.65 | 31.45 | 41.65 | 47.85 | 52.10 | 61.10
27 | 21.15 | 25.00 | 32.40 | 42.45 | 48.50 | 52.85 | 63.40
28 | 21.80 | 25.35 | 33.30 | 43.55 | 49.20 | 53.60 | 65.75
29 | 22.45 | 25.60 | 34.20 | 44.15 | 50.00 | 54.35 | 67.50
30 | 23.15 | 25.95 | 35.00 | 44.80 | 51.40 | 55.15 | 69.00
31 | 23.75 | 26.20 | 35.55 | 45.35 | 52.15 | 56.65 | 70.40
32 | 24.05 | 26.80 | 36.15 | 45.90 | 52.85 | 58.20 | 71.80
33 | 24.40 | 27.50 | 37.05 | 46.50 | 53.55 | 59.75 | 73.15
34 | 24.65 | 28.25 | 38.00 | 47.50 | 55.10 | 61.25 | 74.50
35 | 24.95 | 28.95 | 38.55 | 48.50 | 56.60 | 62.80 | 75.80
36 | 25.25 | 29.75 | 39.05 | 49.55 | 58.05 | 63.90 | 77.10
37 | 25.50 | 30.30 | 39.60 | 50.45 | 59.50 | 65.35 | 78.35
38 | 25.75 | 31.05 | 40.10 | 51.45 | 61.20 | 66.85 | 79.60
39 | 26.00 | 31.70 | 40.60 | 52.50 | 62.65 | 68.60 | 80.80
40 | 26.30 | 32.40 | 41.10 | 53.60 | 63.65 | 70.15 | 81.95
41 | 26.55 | 33.00 | 41.55 | 54.10 | 64.70 | 71.65 | 83.10
42 | 26.75 | 33.65 | 42.05 | 55.25 | 65.85 | 72.60 | 84.25
43 | 27.05 | 34.20 | 42.45 | 56.50 | 67.45 | 73.50 | 85.35
44 | 27.25 | 34.75 | 42.95 | 57.70 | 68.55 | 74.35 | 86.35
45 | 27.45 | 35.10 | 43.30 | 59.00 | 69.30 | 75.20 | 87.40
46 | 27.65 | 35.40 | 43.75 | 60.10 | 70.05 | 76.00 | 88.45
47 | 27.90 | 35.65 | 44.15 | 61.45 | 70.75 | 76.85 | 89.45
48 | 28.10 | 36.00 | 44.50 | 62.65 | 71.70 | 77.60 | 90.40
49 | 28.30 | 36.25 | 44.90 | 63.80 | 72.65 | 78.35 | 91.30
50 | 28.45 | 36.50 | 45.20 | 65.05 | 73.65 | 79.40 | 92.25
51 | 28.60 | 36.80 | 45.60 | 66.15 | 74.65 | 80.45 | 93.10
52 | 28.90 | 37.00 | 45.90 | 66.65 | 75.45 | 81.55 | 94.20
53 | 29.40 | 37.25 | 46.20 | 67.20 | 76.05 | 82.60 | 95.45
54 | 29.80 | 37.45 | 46.55 | 67.75 | 76.65 | 83.30 | 96.75
55 | 30.30 | 37.70 | 46.80 | 68.20 | 77.20 | 83.95 | 98.05
56 | 30.75 | 37.90 | 47.10 | 68.70 | 77.75 | 84.55 | 98.95
57 | 31.20 | 38.10 | 47.40 | 69.10 | 78.30 | 85.10 | 99.70
58 | 31.65 | 38.25 | 47.65 | 69.55 | 78.75 | 85.65 | 100.45
59 | 32.15 | 38.45 | 47.85 | 69.95 | 79.25 | 86.20 | 101.20
60 | 32.55 | 38.65 | 48.35 | 70.35 | 79.65 | 86.70 | 101.90
61 | 33.05 | 38.80 | 49.20 | 70.70 | 80.10 | 87.20 | 103.30
62 | 33.45 | 38.90 | 49.85 | 71.00 | 80.50 | 87.60 | 104.95
63 | 34.05 | 39.05 | 50.65 | 71.40 | 80.90 | 88.05 | 106.60
64 | 34.40 | 39.15 | 51.40 | 71.70 | 81.25 | 88.45 | 108.25
65 | 34.85 | 39.25 | 52.10 | 71.95 | 81.55 | 88.85 | 109.90
66 | 35.30 | 39.40 | 52.90 | 72.25 | 81.90 | 89.15 | 111.50
67 | 35.85 | 39.50 | 53.80 | 72.50 | 82.20 | 89.50 | 113.00
68 | 36.25 | 39.60 | 54.50 | 72.70 | 82.45 | 89.80 | 114.20
69 | 36.75 | 39.65 | 55.15 | 72.95 | 82.70 | 90.10 | 115.45
70 | 37.15 | 39.75 | 56.05 | 73.15 | 82.90 | 90.45 | 116.65

Retail Pickup On Demand

Add $15.30 for each Pickup On Demand stop.

Retail Flat Rate Envelopes

| ($)
Retail Flat Rate Envelope, per piece | 4.95
Retail Legal Flat Rate Envelope, per piece | 4.95
Retail Padded Flat Rate Envelope, per piece | 4.95

Retail Flat Rate Boxes

Size | Delivery to domestic address ($) | Delivery to APO/FPO/DPO address ($)
Small Flat Rate Box | 5.20 | 5.20
Medium Flat Rate Boxes | 10.95 | 10.95
Large Flat Rate Box | 14.95 | 12.95

Retail Balloon Rate

In Zones 1-4 (including local), parcels weighing less than 20 pounds but measuring more than 84 inches in combined length and girth (but not more than 108 inches) are charged the applicable price for a 20-pound parcel.

Retail Dimensional Weight

In Zones 5-8, parcels exceeding one cubic foot are priced at the actual weight or the dimensional weight, whichever is greater.

For box-shaped parcels, the dimensional weight (pounds) is calculated by multiplying the length (inches) times the width (inches) times the height (inches) of the parcel, and dividing by 194.

For irregular-shaped parcels (parcels not appearing box-shaped), the dimensional weight (pounds) is calculated by multiplying the length (inches) times the width (inches) times the height (inches) at the associated maximum cross-sections of the parcel, dividing by 194, and multiplying by an adjustment factor of 0.785.

Commercial Base Priority Mail Zone/Weight

Weight not over (pounds) | Local, Zones 1 & 2 ($) | Zone 3 ($) | Zone 4 ($) | Zone 5 ($) | Zone 6 ($) | Zone 7 ($) | Zone 8 ($)
1 | 4.80 | 4.90 | 5.05 | 5.19 | 5.34 | 5.49 | 5.83
2 | 4.97 | 5.08 | 5.58 | 7.15 | 7.83 | 8.36 | 9.37
3 | 5.16 | 5.96 | 7.03 | 8.47 | 9.68 | 10.44 | 12.14
4 | 5.81 | 6.88 | 8.06 | 10.51 | 12.29 | 13.12 | 14.62
5 | 6.81 | 7.98 | 9.18 | 12.18 | 14.05 | 15.09 | 16.93
6 | 7.63 | 8.91 | 10.36 | 13.86 | 15.74 | 17.19 | 19.36
7 | 8.13 | 9.71 | 11.17 | 15.74 | 17.42 | 19.41 | 21.78
8 | 8.73 | 10.56 | 12.68 | 17.30 | 19.11 | 21.34 | 24.45
9 | 9.10 | 11.38 | 13.52 | 18.64 | 20.84 | 23.18 | 27.20
10 | 9.80 | 12.24 | 14.71 | 20.17 | 22.48 | 25.44 | 29.57
11 | 10.61 | 13.08 | 15.89 | 21.76 | 24.17 | 27.70 | 32.02
12 | 11.35 | 14.01 | 17.04 | 23.36 | 26.33 | 29.96 | 34.39
13 | 12.05 | 14.89 | 17.96 | 24.62 | 28.26 | 31.15 | 35.57
14 | 12.75 | 15.79 | 19.05 | 26.16 | 29.82 | 32.94 | 37.33
15 | 13.32 | 16.67 | 20.12 | 27.70 | 31.03 | 33.52 | 38.30
16 | 13.71 | 17.57 | 21.21 | 29.19 | 32.75 | 35.40 | 40.46
17 | 14.23 | 18.45 | 22.33 | 30.73 | 34.43 | 37.24 | 42.61
18 | 14.50 | 19.06 | 23.41 | 32.23 | 36.22 | 39.10 | 44.72
19 | 14.93 | 19.47 | 23.87 | 33.09 | 37.89 | 40.93 | 46.84
20 | 15.55 | 19.72 | 24.32 | 33.67 | 38.85 | 42.44 | 49.02
21 | 16.07 | 20.00 | 24.67 | 34.21 | 39.45 | 43.12 | 50.11
22 | 16.23 | 20.20 | 24.80 | 34.59 | 39.90 | 43.70 | 50.80
23 | 16.61 | 20.60 | 25.50 | 35.18 | 40.62 | 44.42 | 51.70
24 | 17.01 | 21.05 | 26.31 | 35.94 | 41.44 | 45.46 | 52.98
25 | 17.39 | 21.39 | 27.11 | 36.53 | 42.07 | 46.13 | 53.89
26 | 17.73 | 21.61 | 27.99 | 37.29 | 43.06 | 47.13 | 55.56
27 | 18.25 | 21.92 | 28.85 | 38.01 | 43.65 | 47.82 | 57.67
28 | 18.82 | 22.21 | 29.64 | 39.00 | 44.27 | 48.49 | 59.80
29 | 19.39 | 22.44 | 30.46 | 39.53 | 44.99 | 49.17 | 61.39
30 | 19.99 | 22.76 | 31.17 | 40.10 | 46.25 | 49.89 | 62.74
31 | 20.51 | 22.97 | 31.66 | 40.60 | 46.93 | 51.26 | 64.02
32 | 20.77 | 23.49 | 32.19 | 41.09 | 47.57 | 52.66 | 65.31
33 | 21.07 | 24.11 | 32.99 | 41.64 | 48.20 | 54.05 | 66.52
34 | 21.28 | 24.76 | 33.82 | 42.52 | 49.60 | 55.41 | 67.75
35 | 21.53 | 25.37 | 34.31 | 43.42 | 50.94 | 56.81 | 68.94
36 | 21.80 | 26.08 | 34.77 | 44.36 | 52.23 | 57.81 | 70.12
37 | 22.01 | 26.55 | 35.26 | 45.16 | 53.55 | 59.13 | 71.26
38 | 22.23 | 27.21 | 35.71 | 46.05 | 55.09 | 60.47 | 72.39
39 | 22.44 | 27.81 | 36.14 | 47.00 | 56.39 | 62.07 | 73.50
40 | 22.70 | 28.41 | 36.59 | 47.99 | 57.28 | 63.46 | 74.53
41 | 22.92 | 28.92 | 36.99 | 48.42 | 58.24 | 64.82 | 75.58
42 | 23.10 | 29.51 | 37.44 | 49.45 | 59.26 | 65.69 | 76.63
43 | 23.35 | 29.98 | 37.80 | 50.58 | 60.70 | 66.49 | 77.63
44 | 23.52 | 30.47 | 38.25 | 51.65 | 61.68 | 67.26 | 78.53
45 | 23.69 | 30.78 | 38.56 | 52.81 | 62.37 | 68.03 | 79.48
46 | 23.86 | 31.03 | 38.96 | 53.79 | 63.04 | 68.75 | 80.44
47 | 24.08 | 31.25 | 39.31 | 55.02 | 63.67 | 69.52 | 81.34
48 | 24.25 | 31.56 | 39.63 | 56.08 | 64.52 | 70.20 | 82.22
49 | 24.43 | 31.78 | 39.98 | 57.10 | 65.38 | 70.89 | 83.02
50 | 24.55 | 32.00 | 40.24 | 58.23 | 66.29 | 71.83 | 83.90
51 | 24.91 | 32.27 | 40.60 | 59.22 | 67.18 | 72.78 | 84.67
52 | 25.27 | 32.43 | 40.87 | 59.65 | 67.90 | 73.78 | 85.68
53 | 25.72 | 32.66 | 41.13 | 60.15 | 68.44 | 74.74 | 86.81
54 | 26.08 | 32.82 | 41.45 | 60.65 | 68.97 | 75.36 | 87.99
55 | 26.49 | 33.07 | 41.67 | 61.04 | 69.47 | 75.96 | 89.17
56 | 26.90 | 33.24 | 41.95 | 61.50 | 69.96 | 76.49 | 90.08
57 | 27.30 | 33.41 | 42.21 | 61.85 | 70.47 | 76.99 | 90.89
58 | 27.71 | 33.54 | 42.42 | 62.25 | 70.88 | 77.49 | 91.64
59 | 28.11 | 33.72 | 42.61 | 62.62 | 71.32 | 77.98 | 92.29
60 | 28.46 | 33.89 | 43.15 | 62.98 | 71.68 | 78.44 | 92.95
61 | 28.91 | 34.02 | 43.94 | 63.29 | 72.09 | 78.88 | 94.22
62 | 29.28 | 34.11 | 44.54 | 63.56 | 72.44 | 79.26 | 95.72
63 | 29.77 | 34.23 | 45.23 | 63.92 | 72.80 | 79.67 | 97.22
64 | 30.08 | 34.32 | 45.92 | 64.18 | 73.12 | 80.02 | 98.76
65 | 30.49 | 34.41 | 46.51 | 64.40 | 73.39 | 80.38 | 100.26
66 | 30.90 | 34.54 | 47.25 | 64.68 | 73.70 | 80.64 | 101.72
67 | 31.35 | 34.63 | 48.03 | 64.90 | 73.98 | 80.98 | 103.09
68 | 31.71 | 34.72 | 48.67 | 65.08 | 74.21 | 81.35 | 104.18
69 | 32.16 | 34.77 | 49.27 | 65.31 | 74.43 | 81.74 | 105.31
70 | 32.51 | 34.85 | 50.05 | 65.48 | 74.61 | 82.05 | 106.40

Commercial Pickup On Demand

Add $15.30 for each Pickup On Demand stop.

Commercial Base Flat Rate Envelopes

| ($)
Commercial Base Flat Rate Envelope, per piece | 4.75
Commercial Base Padded Flat Rate Envelope, per piece | 4.95
Commercial Base Legal Flat Rate Envelope, per piece | 4.95

Commercial Base Flat Rate Boxes

Size | Delivery to domestic address ($) | Delivery to APO/FPO/DPO address ($)
Small Flat Rate Box | 5.00 | 5.00
Medium Flat Rate Boxes | 10.50 | 10.50
Large Flat Rate Box | 14.20 | 12.20

Commercial Base Balloon Rate

In Zones 1-4 (including local), parcels weighing less than 20 pounds but measuring more than 84 inches in combined length and girth (but not more than 108 inches) are charged the applicable price for a 20-pound parcel.

Commercial Base Dimensional Weight

In Zones 5-8, parcels exceeding one cubic foot are priced at the actual weight or the dimensional weight, whichever is greater.

For box-shaped parcels, the dimensional weight (pounds) is calculated by multiplying the length (inches) times the width (inches) times the height (inches) of the parcel, and dividing by 194.

For irregular-shaped parcels (parcels not appearing box-shaped), the dimensional weight (pounds) is calculated by multiplying the length (inches) times the width (inches) times the height (inches) at the associated maximum cross-sections of the parcel, dividing by 194, and multiplying by an adjustment factor of 0.785.

Regional Rate Boxes

Box | Local, Zones 1 & 2 ($) | Zone 3 ($) | Zone 4 ($) | Zone 5 ($) | Zone 6 ($) | Zone 7 ($) | Zone 8 ($)
A | 4.97 | 5.08 | 5.58 | 7.15 | 7.83 | 8.36 | 9.37
B | 5.81 | 6.88 | 8.06 | 10.51 | 12.29 | 13.12 | 14.62

Commercial Plus Priority Mail Zone/Weight

Weight not over (pounds) | Local, Zones 1 & 2 ($) | Zone 3 ($) | Zone 4 ($) | Zone 5 ($) | Zone 6 ($) | Zone 7 ($) | Zone 8 ($)
0.5 | 4.30 | 4.36 | 4.45 | 4.59 | 4.72 | 4.85 | 5.08
1 | 4.75 | 4.85 | 5.00 | 5.09 | 5.24 | 5.39 | 5.73
2 | 4.90 | 5.00 | 5.45 | 6.65 | 7.09 | 7.61 | 8.20
3 | 5.01 | 5.76 | 6.57 | 8.03 | 9.39 | 10.24 | 11.43
4 | 5.58 | 6.58 | 7.64 | 9.79 | 11.41 | 12.51 | 14.17
5 | 6.21 | 7.51 | 8.38 | 11.44 | 13.23 | 14.59 | 16.70
6 | 7.07 | 8.70 | 9.97 | 13.50 | 14.82 | 16.83 | 18.59
7 | 7.77 | 9.65 | 11.12 | 15.42 | 16.48 | 18.92 | 21.24
8 | 8.22 | 10.02 | 12.33 | 16.84 | 17.88 | 20.76 | 23.82
9 | 8.44 | 10.72 | 13.16 | 18.17 | 19.35 | 22.59 | 26.51
10 | 8.94 | 11.55 | 13.87 | 19.35 | 20.96 | 24.58 | 28.95
11 | 9.36 | 11.83 | 14.68 | 20.10 | 22.26 | 25.92 | 29.99
12 | 9.76 | 12.43 | 15.49 | 21.23 | 23.99 | 27.25 | 31.27
13 | 10.02 | 12.74 | 15.94 | 22.40 | 25.73 | 28.35 | 32.35
14 | 10.37 | 13.30 | 16.66 | 23.41 | 27.11 | 29.98 | 33.97
15 | 10.82 | 13.89 | 17.46 | 24.12 | 27.73 | 30.28 | 34.70
16 | 11.18 | 14.36 | 18.01 | 24.63 | 28.35 | 30.97 | 35.58
17 | 11.52 | 14.85 | 18.38 | 25.25 | 29.11 | 31.73 | 36.49
18 | 11.77 | 15.31 | 18.73 | 25.76 | 29.68 | 32.34 | 37.37
19 | 12.17 | 15.66 | 19.03 | 26.37 | 30.38 | 33.17 | 38.30
20 | 12.47 | 15.90 | 19.39 | 26.82 | 30.96 | 33.79 | 39.14
21 | 12.82 | 16.12 | 19.70 | 27.27 | 31.47 | 34.39 | 39.91
22 | 13.13 | 16.41 | 19.99 | 27.89 | 32.17 | 35.17 | 40.90
23 | 13.42 | 16.62 | 20.55 | 28.36 | 32.74 | 35.80 | 41.61
24 | 13.72 | 16.82 | 21.17 | 28.96 | 33.41 | 36.63 | 42.65
25 | 14.03 | 17.07 | 21.87 | 29.43 | 33.93 | 37.18 | 43.37
26 | 14.32 | 17.27 | 22.57 | 30.03 | 34.68 | 37.95 | 44.76
27 | 14.72 | 17.52 | 23.25 | 30.45 | 35.19 | 38.52 | 46.42
28 | 15.19 | 17.72 | 23.84 | 30.84 | 35.66 | 39.09 | 48.13
29 | 15.63 | 17.92 | 24.56 | 31.25 | 36.12 | 39.60 | 49.67
30 | 16.13 | 18.19 | 25.20 | 31.70 | 36.64 | 40.17 | 51.34
31 | 16.53 | 18.33 | 25.92 | 32.07 | 37.09 | 40.68 | 53.03
32 | 16.97 | 18.78 | 26.58 | 32.48 | 37.61 | 41.66 | 54.69
33 | 17.43 | 19.29 | 27.17 | 32.88 | 38.07 | 42.84 | 56.29
34 | 17.88 | 19.79 | 27.89 | 33.59 | 39.19 | 44.02 | 57.95
35 | 18.33 | 20.30 | 28.45 | 34.30 | 40.26 | 45.21 | 59.61
36 | 18.78 | 20.80 | 28.91 | 35.07 | 41.28 | 46.43 | 61.26
37 | 19.24 | 21.25 | 29.38 | 35.73 | 42.36 | 47.62 | 62.91
38 | 19.48 | 21.75 | 29.81 | 36.43 | 43.54 | 48.75 | 64.57
39 | 19.72 | 22.22 | 30.22 | 37.16 | 44.61 | 50.00 | 66.27
40 | 20.09 | 22.66 | 30.68 | 37.92 | 45.62 | 51.12 | 67.82
41 | 20.51 | 23.10 | 31.08 | 38.27 | 46.71 | 52.35 | 69.47
42 | 20.89 | 23.57 | 31.50 | 39.09 | 47.73 | 53.59 | 71.13
43 | 21.31 | 23.96 | 31.90 | 39.95 | 48.91 | 54.76 | 72.80
44 | 21.69 | 24.43 | 32.30 | 40.87 | 49.92 | 56.00 | 74.44
45 | 22.05 | 24.88 | 32.66 | 41.74 | 51.01 | 57.20 | 76.09
46 | 22.47 | 25.34 | 33.30 | 42.54 | 52.08 | 58.37 | 77.74
47 | 22.86 | 25.78 | 33.93 | 43.46 | 53.26 | 59.61 | 79.35
48 | 23.28 | 26.13 | 34.68 | 44.32 | 54.34 | 60.83 | 80.76
49 | 23.65 | 26.45 | 35.03 | 45.15 | 55.30 | 62.08 | 81.58
50 | 23.97 | 26.69 | 35.35 | 46.01 | 56.38 | 63.25 | 82.60
51 | 24.45 | 26.95 | 35.98 | 46.93 | 57.45 | 64.44 | 83.48
52 | 24.77 | 27.19 | 36.68 | 47.78 | 58.63 | 65.63 | 84.29
53 | 25.25 | 27.45 | 37.29 | 48.65 | 59.66 | 66.86 | 85.13
54 | 25.57 | 27.64 | 37.91 | 49.57 | 60.68 | 67.99 | 85.94
55 | 25.99 | 27.90 | 38.68 | 50.43 | 61.75 | 69.12 | 86.67
56 | 26.38 | 28.10 | 39.29 | 51.24 | 62.92 | 70.35 | 87.43
57 | 26.79 | 28.36 | 39.90 | 52.06 | 63.95 | 71.58 | 88.22
58 | 27.16 | 28.56 | 40.61 | 52.98 | 65.03 | 72.18 | 88.93
59 | 27.59 | 28.75 | 41.28 | 53.85 | 65.69 | 72.59 | 89.57
60 | 27.91 | 28.96 | 41.89 | 54.75 | 66.06 | 73.77 | 90.25
61 | 28.38 | 29.15 | 42.64 | 55.57 | 66.83 | 74.91 | 91.45
62 | 28.71 | 29.42 | 43.26 | 56.50 | 67.25 | 76.07 | 92.90
63 | 29.17 | 29.86 | 43.93 | 57.41 | 67.64 | 76.85 | 94.36
64 | 29.50 | 30.04 | 44.58 | 58.28 | 68.06 | 77.32 | 95.84
65 | 29.93 | 30.12 | 45.16 | 58.85 | 68.40 | 77.74 | 97.34
66 | 30.29 | 30.47 | 45.87 | 59.10 | 68.83 | 78.13 | 98.75
67 | 30.72 | 30.89 | 46.62 | 59.72 | 69.17 | 78.57 | 100.30
68 | 31.10 | 31.26 | 47.25 | 60.57 | 69.45 | 78.95 | 101.69
69 | 31.53 | 31.69 | 47.85 | 61.49 | 69.84 | 79.35 | 103.19
70 | 31.89 | 32.06 | 48.60 | 61.76 | 70.13 | 79.66 | 104.64

Commercial Pickup On Demand

Add $15.30 for each Pickup On Demand stop.

Commercial Plus Flat Rate Envelopes

| ($)
Commercial Plus Flat Rate Envelope, per piece | 4.70
Commercial Plus Padded Flat Rate Envelope, per piece | 4.90
Commercial Plus Legal Flat Rate Envelope, per piece | 4.90

Commercial Plus Flat Rate Boxes

Size | Delivery to domestic address ($) | Delivery to APO/FPO/DPO address ($)
Small Flat Rate Box | 4.95 | 4.95
Medium Flat Rate Boxes | 9.97 | 9.97
Large Flat Rate Box | 13.67 | 11.67

Commercial Plus Balloon Rate

In Zones 1-4 (including local), parcels weighing less than 20 pounds but measuring more than 84 inches in combined length and girth (but not more than 108 inches) are charged the applicable price for a 20-pound parcel.

Commercial Plus Dimensional Weight

In Zones 5-8, parcels exceeding one cubic foot are priced at the actual weight or the dimensional weight, whichever is greater.

For box-shaped parcels, the dimensional weight (pounds) is calculated by multiplying the length (inches) times the width (inches) times the height (inches) of the parcel, and dividing by 194.

For irregular-shaped parcels (parcels not appearing box-shaped), the dimensional weight (pounds) is calculated by multiplying the length (inches) times the width (inches) times the height (inches) at the associated maximum cross-sections of the parcel, dividing by 194, and multiplying by an adjustment factor of 0.785.

Critical Mail

Shape | Local, Zones 1 & 2 ($) | Zone 3 ($) | Zone 4 ($) | Zone 5 ($) | Zone 6 ($) | Zone 7 ($) | Zone 8 ($)
Letter | 3.50 | 3.50 | 3.50 | 3.50 | 3.50 | 3.50 | 3.50
Flat | 4.25 | 4.25 | 4.25 | 4.25 | 4.25 | 4.25 | 4.25

Regional Rate Boxes

Box | Local, Zones 1 & 2 ($) | Zone 3 ($) | Zone 4 ($) | Zone 5 ($) | Zone 6 ($) | Zone 7 ($) | Zone 8 ($)
A | 4.97 | 5.08 | 5.58 | 7.15 | 7.83 | 8.36 | 9.37
B | 5.81 | 6.88 | 8.06 | 10.51 | 12.29 | 13.12 | 14.62

Commercial Plus Cubic

Maximum cubic feet | Local, Zones 1 & 2 ($) | Zone 3 ($) | Zone 4 ($) | Zone 5 ($) | Zone 6 ($) | Zone 7 ($) | Zone 8 ($)
0.10 | 4.30 | 4.36 | 4.45 | 4.59 | 4.72 | 4.85 | 5.08
0.20 | 4.86 | 4.96 | 5.13 | 5.30 | 5.47 | 5.65 | 6.02
0.30 | 5.05 | 5.45 | 6.07 | 7.42 | 8.29 | 8.97 | 9.85
0.40 | 5.32 | 6.18 | 7.10 | 8.84 | 10.32 | 11.28 | 12.67
0.50 | 6.03 | 7.21 | 8.19 | 10.87 | 12.62 | 13.88 | 15.82

Commercial Pickup On Demand

Add $15.30 for each Pickup On Demand stop.

2115 Parcel Select

2115.1 Description

b. Parcel Select mail is not sealed against postal inspection. Mailing of matter as such constitutes consent by the mailer to postal inspection of the contents, regardless of the physical closure.

c. Undeliverable-as-addressed Parcel Select pieces will be forwarded on request of the addressee or forwarded or returned on request of the mailer, subject to the applicable Single-Piece Parcel Post price when forwarded or returned from one Post Office location to another. Pieces which combine Parcel Select matter with First-Class Mail or Standard Mail matter will be forwarded or returned if undeliverable-as-addressed, as specified in the Domestic Mail Manual.

d. An annual mailing permit fee is required for destination entered parcels to be paid at each office of mailing or office of verification by or for mailers of Parcel Select (1505.2). Payment of the fee allows the mailer to mail at any Parcel Select price.

e. Attachments and Enclosures. First-Class Mail or Standard Mail pieces may be attached to or enclosed in Parcel Select mail.

2115.2 Size and Weight Limitations

Parcel Select

| Length | Height | Thickness | Weight
Minimum | Large enough to accommodate postage, address, and other required elements on the address side |  |  | None
Maximum | 130 inches in combined length and girth |  |  | 70 pounds

Lightweight

| Length | Height | Thickness | Weight
Minimum | Large enough to accommodate postage, address, and other required elements on the address side |  |  | None
Maximum | 108 inches in combined length and girth |  |  | < 16 ounces

2115.3 Minimum Volume Requirements

| Minimum volume requirements | Barcoded Nonpresort with PC Postage | None.
Barcoded Nonpresort with PC Postage | None.
Barcoded Nonpresort—All Other Postage Payment Methods | 50 pieces per mailing.
Lightweight | 200 pieces or 50 pounds per mailing.
All Other Parcel Select | 50 pieces per mailing.

2115.4 Price Categories

○ DSCF—Entered at a designated destination processing and distribution center or facility, or other equivalent facility.

■ Machinable

⋄ 5-Digit

■ Nonmachinable

⋄ 5-Digit

⋄ 3-Digit

■ Balloon Rate

■ Oversized

○ DNDC—Entered at a designated destination bulk mail center, auxiliary service facility, or other equivalent facility.

■ Machinable

■ Nonmachinable

■ Balloon Rate

■ Oversized

• Non-Destination Entered

○ ONDC Presort—Entered at the origin bulk mail center.

■ Machinable Barcoded

■ Machinable Nonbarcoded and Nonmachinable

■ Balloon Rate

■ Oversized

○ NDC Presort—Entered at a designated facility.

■ Machinable Barcoded

■ Machinable Nonbarcoded and Nonmachinable

■ Balloon Rate

■ Oversized

○ Barcoded Nonpresort

■ Machinable

■ Balloon Rate

2115.5 Optional Features

The following additional postal services may be available in conjunction with the product specified in this section:

• Pickup On Demand

• Ancillary Services (1505)

○ Address Correction Service (1505.1)

○ Certificate of Mailing (1505.6)

○ Collect On Delivery (1505.7)

○ Delivery Confirmation (1505.8)

○ Insurance (1505.9)

○ Return Receipt (1505.13)

○ Return Receipt for Merchandise (1505.14)

○ Restricted Delivery (1505.15)

○ Signature Confirmation (1505.17)

○ Special Handling (1505.18)

2115.6 Prices

Destination Entered

a. DDU and DSCF Entered

Weight not over (pounds) | DDU ($) | DSCF 5-digit ($) | DSCF 3-digit nonmachinable ($)
1 | 1.85 | 2.31 | 3.31
2 | 1.85 | 2.56 | 3.56
3 | 1.88 | 2.81 | 3.81
4 | 1.92 | 3.03 | 4.03
5 | 1.97 | 3.22 | 4.22
6 | 2.01 | 3.42 | 4.42
7 | 2.05 | 3.62 | 4.62
8 | 2.09 | 3.81 | 4.81
9 | 2.13 | 3.98 | 4.98
10 | 2.17 | 4.13 | 5.13
11 | 2.20 | 4.29 | 5.29
12 | 2.24 | 4.43 | 5.43
13 | 2.29 | 4.60 | 5.60
14 | 2.33 | 4.72 | 5.72
15 | 2.38 | 4.89 | 5.89
16 | 2.42 | 5.06 | 6.06
17 | 2.47 | 5.21 | 6.21
18 | 2.51 | 5.35 | 6.35
19 | 2.56 | 5.50 | 6.50
20 | 2.60 | 5.62 | 6.62
21 | 2.65 | 5.77 | 6.77
22 | 2.69 | 5.93 | 6.93
23 | 2.74 | 6.10 | 7.10
24 | 2.78 | 6.25 | 7.25
25 | 2.83 | 6.35 | 7.35
26 | 2.87 | 6.48 | 7.48
27 | 2.92 | 6.68 | 7.68
28 | 2.96 | 6.80 | 7.80
29 | 3.01 | 6.93 | 7.93
30 | 3.05 | 7.05 | 8.05
31 | 3.10 | 7.23 | 8.23
32 | 3.14 | 7.36 | 8.36
33 | 3.19 | 7.49 | 8.49
34 | 3.23 | 7.67 | 8.67
35 | 3.28 | 7.76 | 8.76
36 | 3.32 | 7.91 | 8.91
37 | 3.37 | 8.06 | 9.06
38 | 3.41 | 8.19 | 9.19
39 | 3.46 | 8.35 | 9.35
40 | 3.50 | 8.45 | 9.45
41 | 3.55 | 8.58 | 9.58
42 | 3.59 | 8.71 | 9.71
43 | 3.64 | 8.83 | 9.83
44 | 3.68 | 8.98 | 9.98
45 | 3.73 | 9.10 | 10.10
46 | 3.77 | 9.26 | 10.26
47 | 3.82 | 9.38 | 10.38
48 | 3.86 | 9.50 | 10.50
49 | 3.91 | 9.64 | 10.64
50 | 3.95 | 9.73 | 10.73
51 | 4.00 | 9.90 | 10.90
52 | 4.04 | 10.00 | 11.00
53 | 4.09 | 10.12 | 11.12
54 | 4.13 | 10.27 | 11.27
55 | 4.18 | 10.46 | 11.46
56 | 4.22 | 10.57 | 11.57
57 | 4.27 | 10.73 | 11.73
58 | 4.31 | 10.89 | 11.89
59 | 4.36 | 11.06 | 12.06
60 | 4.40 | 11.19 | 12.19
61 | 4.45 | 11.27 | 12.27
62 | 4.49 | 11.43 | 12.43
63 | 4.54 | 11.58 | 12.58
64 | 4.58 | 11.76 | 12.76
65 | 4.63 | 11.88 | 12.88
66 | 4.67 | 12.01 | 13.01
67 | 4.72 | 12.16 | 13.16
68 | 4.76 | 12.29 | 13.29
69 | 4.81 | 12.45 | 13.45
70 | 4.85 | 12.60 | 13.60
Oversized | 7.62 | 17.17 | 17.17

b. DNDC Entered—Machinable

20 | 8.08 | 12.71 | 13.47 | 14.51
21 | 8.40 | 13.08 | 13.85 | 14.90
22 | 8.63 | 13.32 | 14.11 | 15.12
23 | 8.87 | 13.60 | 14.36 | 15.36
24 | 9.10 | 13.83 | 14.61 | 15.56
25 | 9.27 | 14.01 | 14.79 | 15.72
26 | 9.48 | 14.28 | 15.09 | 15.92
27 | 9.74 | 14.58 | 15.36 | 16.16
28 | 9.91 | 14.80 | 15.57 | 16.35
29 | 10.12 | 15.01 | 15.79 | 16.59
30 | 10.31 | 15.26 | 16.03 | 16.84
31 | 10.67 | 15.69 | 16.50 | 17.35
32 | 10.87 | 15.94 | 16.76 | 17.58
33 | 11.08 | 16.17 | 16.98 | 17.84
34 | 11.33 | 16.39 | 17.28 | 18.15
35 | 11.45 | 16.56 | 17.48 | 18.33
12 | 6.24 | 10.34 | 11.61 | 12.60
13 | 6.48 | 10.78 | 11.87 | 12.90
14 | 6.71 | 11.13 | 12.09 | 13.10
15 | 6.92 | 11.48 | 12.31 | 13.32
16 | 7.25 | 11.87 | 12.68 | 13.75
17 | 7.47 | 12.06 | 12.91 | 13.93
18 | 7.68 | 12.28 | 13.12 | 14.16
19 | 7.91 | 12.52 | 13.34 | 14.38

c. DNDC Entered—Nonmachinable

Weight not over (pounds) | Zones 1 & 2 ($) | Zone 3 ($) | Zone 4 ($) | Zone 5 ($)
1 | 5.65 | 6.58 | 7.43 | 8.29
2 | 5.65 | 6.58 | 7.43 | 8.29
3 | 6.03 | 7.39 | 8.59 | 9.30
4 | 6.37 | 8.12 | 9.53 | 10.17
5 | 6.67 | 8.79 | 10.19 | 10.98
6 | 7.00 | 9.44 | 10.78 | 11.74
7 | 7.30 | 10.07 | 11.35 | 12.49
8 | 7.58 | 10.63 | 11.81 | 13.13
9 | 7.84 | 11.15 | 12.29 | 13.70
10 | 8.11 | 11.70 | 13.40 | 14.29
11 | 8.35 | 12.23 | 13.75 | 14.70
12 | 8.60 | 12.70 | 13.97 | 14.96
13 | 8.84 | 13.14 | 14.23 | 15.26
14 | 9.07 | 13.49 | 14.45 | 15.46
15 | 9.28 | 13.84 | 14.67 | 15.68
16 | 9.61 | 14.23 | 15.04 | 16.11
17 | 9.83 | 14.42 | 15.27 | 16.29
18 | 10.04 | 14.64 | 15.48 | 16.52
19 | 10.27 | 14.88 | 15.70 | 16.74
20 | 10.44 | 15.07 | 15.83 | 16.87
21 | 10.76 | 15.44 | 16.21 | 17.26
22 | 10.99 | 15.68 | 16.47 | 17.48
23 | 11.23 | 15.96 | 16.72 | 17.72
24 | 11.46 | 16.19 | 16.97 | 17.92
25 | 11.63 | 16.37 | 17.15 | 18.08
26 | 11.84 | 16.64 | 17.45 | 18.28
27 | 12.10 | 16.94 | 17.72 | 18.52
28 | 12.27 | 17.16 | 17.93 | 18.71
29 | 12.48 | 17.37 | 18.15 | 18.95
30 | 12.67 | 17.62 | 18.39 | 19.20
31 | 13.03 | 18.05 | 18.86 | 19.71
32 | 13.23 | 18.30 | 19.12 | 19.94
33 | 13.44 | 18.53 | 19.34 | 20.20
34 | 13.69 | 18.75 | 19.64 | 20.51
35 | 13.81 | 18.92 | 19.84 | 20.69
36 | 14.06 | 19.14 | 20.11 | 20.98
37 | 14.31 | 19.37 | 20.39 | 21.27
38 | 14.52 | 19.60 | 20.65 | 21.56
39 | 14.74 | 19.84 | 20.91 | 21.83
40 | 14.92 | 20.03 | 21.19 | 22.11
41 | 15.13 | 20.31 | 21.38 | 22.37
42 | 15.31 | 20.47 | 21.55 | 22.59
43 | 15.51 | 20.67 | 21.71 | 22.86
44 | 15.74 | 20.94 | 21.94 | 23.16
45 | 15.94 | 21.13 | 22.31 | 23.40
46 | 16.29 | 21.59 | 22.72 | 24.05
47 | 16.48 | 21.79 | 22.89 | 24.66
48 | 16.69 | 22.06 | 23.10 | 25.34
49 | 16.91 | 22.32 | 23.32 | 26.01
50 | 17.07 | 22.45 | 23.40 | 26.58
51 | 17.32 | 22.67 | 23.63 | 27.29
52 | 17.52 | 22.98 | 23.83 | 28.05
53 | 17.73 | 23.19 | 24.00 | 28.81
54 | 17.98 | 23.39 | 24.21 | 29.58
55 | 18.21 | 23.59 | 24.43 | 30.00
56 | 18.43 | 23.78 | 24.65 | 30.26
57 | 18.67 | 23.92 | 24.80 | 30.60
58 | 18.94 | 24.18 | 25.03 | 30.95
59 | 19.18 | 24.35 | 25.24 | 31.25
60 | 19.42 | 24.49 | 25.39 | 31.55
61 | 19.55 | 24.65 | 25.54 | 31.76
62 | 19.82 | 24.86 | 25.82 | 32.10
63 | 20.05 | 25.02 | 26.07 | 32.37
64 | 20.32 | 25.22 | 26.36 | 32.73
65 | 20.56 | 25.40 | 26.60 | 32.99
66 | 20.75 | 25.61 | 26.90 | 33.36
67 | 20.97 | 25.75 | 27.16 | 33.61
68 | 21.22 | 25.96 | 27.40 | 33.96
69 | 21.44 | 26.11 | 27.65 | 34.22
70 | 21.70 | 26.33 | 27.96 | 34.56
Oversized | 26.99 | 38.10 | 51.61 | 53.64

d. Balloon Rate

Pieces exceeding 84 inches in length and girth combined (but not more than 108 inches) and weighing less than 20 pounds are subject to the otherwise applicable price for a 20-pound parcel.

e. Oversized Price

Regardless of weight, any piece that measures more than 108 inches (but not more than 130 inches) in combined length plus girth must pay the oversized price.

Non-Destination Entered

a. ONDC Presort Machinable Barcoded

Weight not over (pounds) | Zones 1 & 2 ($) | Zone 3 ($) | Zone 4 ($) | Zone 5 ($) | Zone 6 ($) | Zone 7 ($) | Zone 8 ($)
1 | 3.92 | 3.97 | 4.07 | 4.12 | 4.17 | 4.23 | 4.31
2 | 4.02 | 4.37 | 5.02 | 6.29 | 6.84 | 7.34 | 8.17
3 | 4.74 | 5.59 | 6.58 | 7.38 | 8.09 | 8.58 | 9.58
4 | 5.45 | 6.46 | 7.47 | 8.54 | 9.52 | 10.25 | 11.27
5 | 6.24 | 7.56 | 8.47 | 9.38 | 10.29 | 11.20 | 12.10
6 | 6.85 | 8.15 | 9.00 | 9.85 | 10.70 | 11.55 | 12.93
7 | 7.39 | 8.85 | 9.48 | 10.65 | 11.37 | 11.87 | 13.76
8 | 8.01 | 9.36 | 10.21 | 11.05 | 11.90 | 12.74 | 14.59
9 | 8.57 | 9.97 | 10.84 | 11.71 | 12.57 | 13.44 | 15.42
10 | 9.17 | 10.64 | 11.57 | 12.50 | 13.43 | 14.35 | 16.25
11 | 9.62 | 11.22 | 12.24 | 13.26 | 14.29 | 15.31 | 17.08
12 | 10.15 | 11.80 | 12.87 | 13.94 | 15.01 | 16.07 | 17.99
13 | 10.32 | 12.11 | 13.29 | 14.47 | 15.70 | 16.83 | 18.89
14 | 10.49 | 12.41 | 13.71 | 15.01 | 16.39 | 17.58 | 19.79
15 | 10.66 | 12.72 | 14.13 | 15.54 | 17.05 | 18.35 | 20.70
16 | 10.84 | 13.02 | 14.55 | 16.08 | 17.67 | 19.09 | 21.61
17 | 11.36 | 13.33 | 14.97 | 16.61 | 18.30 | 19.85 | 22.51
18 | 11.88 | 13.64 | 15.39 | 17.14 | 18.90 | 20.62 | 23.42
19 | 12.07 | 13.94 | 15.81 | 17.68 | 19.52 | 21.37 | 24.31
20 | 12.26 | 14.25 | 16.23 | 18.21 | 20.13 | 22.12 | 25.23
21 | 12.46 | 14.55 | 16.65 | 18.75 | 20.79 | 22.90 | 26.15
22 | 12.65 | 14.86 | 17.07 | 19.28 | 21.45 | 23.67 | 27.08
23 | 12.84 | 15.16 | 17.49 | 19.82 | 22.12 | 24.45 | 28.00
24 | 13.03 | 15.47 | 17.91 | 20.35 | 22.78 | 25.22 | 28.93
25 | 13.22 | 15.78 | 18.33 | 20.89 | 23.44 | 26.00 | 29.85
26 | 13.43 | 16.10 | 18.77 | 21.44 | 24.10 | 26.77 | 30.78
27 | 13.64 | 16.43 | 19.21 | 21.99 | 24.77 | 27.55 | 31.70
28 | 13.86 | 16.75 | 19.64 | 22.54 | 25.43 | 28.32 | 32.62
29 | 14.07 | 17.07 | 20.08 | 23.09 | 26.09 | 29.10 | 33.55
30 | 14.28 | 17.40 | 20.52 | 23.64 | 26.75 | 29.87 | 34.47
31 | 14.54 | 17.72 | 20.95 | 24.19 | 27.42 | 30.65 | 35.40
32 | 14.85 | 18.05 | 21.39 | 24.74 | 28.08 | 31.42 | 36.32
33 | 15.17 | 18.37 | 21.83 | 25.28 | 28.74 | 32.20 | 37.25
34 | 15.48 | 18.70 | 22.27 | 25.83 | 29.40 | 32.97 | 38.17
35 | 15.79 | 19.02 | 22.70 | 26.38 | 30.06 | 33.75 | 39.10

b. ONDC Presort Machinable Nonbarcoded and Nonmachinable

Weight not over (pounds) | Zones 1 & 2 ($) | Zone 3 ($) | Zone 4 ($) | Zone 5 ($) | Zone 6 ($) | Zone 7 ($) | Zone 8 ($)
1 | 3.95 | 4.00 | 4.10 | 4.15 | 4.20 | 4.26 | 4.34
2 | 4.05 | 4.40 | 5.05 | 6.32 | 6.87 | 7.37 | 8.20
3 | 4.77 | 5.62 | 6.61 | 7.41 | 8.12 | 8.61 | 9.61
4 | 5.48 | 6.49 | 7.50 | 8.57 | 9.55 | 10.28 | 11.30
5 | 6.27 | 7.59 | 8.50 | 9.41 | 10.32 | 11.23 | 12.13
6 | 6.88 | 8.18 | 9.03 | 9.88 | 10.73 | 11.58 | 12.96
7 | 7.42 | 8.88 | 9.51 | 10.68 | 11.40 | 11.90 | 13.79
8 | 8.04 | 9.39 | 10.24 | 11.08 | 11.93 | 12.77 | 14.62
9 | 8.60 | 10.00 | 10.87 | 11.74 | 12.60 | 13.47 | 15.45
10 | 9.20 | 10.67 | 11.60 | 12.53 | 13.46 | 14.38 | 16.28
11 | 9.65 | 11.25 | 12.27 | 13.29 | 14.32 | 15.34 | 17.11
12 | 10.18 | 11.83 | 12.90 | 13.97 | 15.04 | 16.10 | 18.02
13 | 10.35 | 12.14 | 13.32 | 14.50 | 15.73 | 16.86 | 18.92
14 | 10.52 | 12.44 | 13.74 | 15.04 | 16.42 | 17.61 | 19.82
15 | 10.69 | 12.75 | 14.16 | 15.57 | 17.08 | 18.38 | 20.73
16 | 10.87 | 13.05 | 14.58 | 16.11 | 17.70 | 19.12 | 21.64
17 | 11.39 | 13.36 | 15.00 | 16.64 | 18.33 | 19.88 | 22.54
18 | 11.91 | 13.67 | 15.42 | 17.17 | 18.93 | 20.65 | 23.45
19 | 12.10 | 13.97 | 15.84 | 17.71 | 19.55 | 21.40 | 24.34
20 | 12.29 | 14.28 | 16.26 | 18.24 | 20.16 | 22.15 | 25.26
21 | 12.49 | 14.58 | 16.68 | 18.78 | 20.82 | 22.93 | 26.18
22 | 12.68 | 14.89 | 17.10 | 19.31 | 21.48 | 23.70 | 27.11
23 | 12.87 | 15.19 | 17.52 | 19.85 | 22.15 | 24.48 | 28.03
24 | 13.06 | 15.50 | 17.94 | 20.38 | 22.81 | 25.25 | 28.96
25 | 13.25 | 15.81 | 18.36 | 20.92 | 23.47 | 26.03 | 29.88
26 | 13.46 | 16.13 | 18.80 | 21.47 | 24.13 | 26.80 | 30.81
27 | 13.67 | 16.46 | 19.24 | 22.02 | 24.80 | 27.58 | 31.73
28 | 13.89 | 16.78 | 19.67 | 22.57 | 25.46 | 28.35 | 32.65
29 | 14.10 | 17.10 | 20.11 | 23.12 | 26.12 | 29.13 | 33.58
30 | 14.31 | 17.43 | 20.55 | 23.67 | 26.78 | 29.90 | 34.50
31 | 14.57 | 17.75 | 20.98 | 24.22 | 27.45 | 30.68 | 35.43
32 | 14.88 | 18.08 | 21.42 | 24.77 | 28.11 | 31.45 | 36.35
33 | 15.20 | 18.40 | 21.86 | 25.31 | 28.77 | 32.23 | 37.28
34 | 15.51 | 18.73 | 22.30 | 25.86 | 29.43 | 33.00 | 38.20
35 | 15.82 | 19.05 | 22.73 | 26.41 | 30.09 | 33.78 | 39.13
36 | 15.98 | 19.38 | 23.17 | 26.96 | 30.76 | 34.55 | 40.05
37 | 16.14 | 19.70 | 23.61 | 27.51 | 31.42 | 35.32 | 40.98
38 | 16.30 | 20.03 | 24.05 | 28.06 | 32.08 | 36.10 | 41.90
39 | 16.45 | 20.35 | 24.48 | 28.61 | 32.74 | 36.87 | 42.83
40 | 16.61 | 20.68 | 24.92 | 29.16 | 33.41 | 37.65 | 43.75
41 | 16.76 | 21.00 | 25.36 | 29.71 | 34.07 | 38.42 | 44.68
42 | 16.92 | 21.33 | 25.80 | 30.26 | 34.73 | 39.20 | 45.60
43 | 17.08 | 21.65 | 26.23 | 30.81 | 35.39 | 39.97 | 46.53
44 | 17.29 | 21.98 | 26.67 | 31.36 | 36.06 | 40.75 | 47.45
45 | 17.50 | 22.30 | 27.11 | 31.91 | 36.72 | 41.52 | 48.38
46 | 17.71 | 22.63 | 27.55 | 32.46 | 37.38 | 42.30 | 49.30
47 | 17.92 | 22.95 | 27.98 | 33.01 | 38.04 | 43.07 | 50.23
48 | 18.13 | 23.28 | 28.42 | 33.56 | 38.71 | 43.85 | 51.15
49 | 18.35 | 23.60 | 28.86 | 34.11 | 39.37 | 44.62 | 52.08
50 | 18.56 | 23.93 | 29.29 | 34.66 | 40.03 | 45.40 | 53.00
51 | 18.77 | 24.11 | 29.54 | 35.01 | 40.61 | 46.17 | 53.93
52 | 18.98 | 24.29 | 29.78 | 35.36 | 41.18 | 46.95 | 54.85
53 | 19.20 | 24.47 | 30.03 | 35.71 | 41.75 | 47.72 | 55.78
54 | 19.41 | 24.65 | 30.27 | 36.05 | 42.33 | 48.50 | 56.70
55 | 19.62 | 24.83 | 30.52 | 36.40 | 42.90 | 49.27 | 57.63
56 | 19.83 | 25.01 | 30.76 | 36.75 | 43.48 | 50.05 | 58.55
57 | 20.05 | 25.19 | 31.01 | 37.10 | 44.05 | 50.82 | 59.48
58 | 20.26 | 25.38 | 31.25 | 37.44 | 44.63 | 51.60 | 60.40
59 | 20.47 | 25.56 | 31.49 | 37.79 | 45.20 | 52.37 | 61.33
60 | 20.68 | 25.74 | 31.74 | 38.14 | 45.78 | 53.15 | 62.25
61 | 20.90 | 25.92 | 31.98 | 38.49 | 46.35 | 53.92 | 63.18
62 | 21.11 | 26.10 | 32.23 | 38.83 | 46.93 | 54.70 | 64.10
63 | 21.32 | 26.28 | 32.47 | 39.18 | 47.50 | 55.47 | 65.03
64 | 21.53 | 26.46 | 32.72 | 39.53 | 48.08 | 56.25 | 65.95
65 | 21.75 | 26.64 | 32.96 | 39.88 | 48.65 | 57.02 | 66.88
66 | 21.96 | 26.82 | 33.20 | 40.23 | 49.23 | 57.80 | 67.80
67 | 22.17 | 27.00 | 33.45 | 40.57 | 49.80 | 58.57 | 68.72
68 | 22.38 | 27.19 | 33.69 | 40.92 | 50.38 | 59.34 | 69.65
69 | 22.59 | 27.37 | 33.94 | 41.27 | 50.95 | 60.12 | 70.57
70 | 22.81 | 27.55 | 34.18 | 41.62 | 51.53 | 60.89 | 71.50
Oversized | 64.98 | 73.07 | 74.68 | 76.92 | 97.33 | 105.42 | 113.51

c. NDC Presort Machinable Barcoded

Weight not over (pounds) | Zones 1 & 2 ($) | Zone 3 ($) | Zone 4 ($) | Zone 5 ($) | Zone 6 ($) | Zone 7 ($) | Zone 8 ($)
1 | 4.84 | 4.89 | 4.99 | 5.04 | 5.09 | 5.15 | 5.23
2 | 4.94 | 5.29 | 5.94 | 7.21 | 7.76 | 8.26 | 9.09
3 | 5.66 | 6.51 | 7.50 | 8.30 | 9.01 | 9.50 | 10.50
4 | 6.37 | 7.38 | 8.39 | 9.46 | 10.44 | 11.17 | 12.19
5 | 7.16 | 8.48 | 9.39 | 10.30 | 11.21 | 12.12 | 13.02
6 | 7.77 | 9.07 | 9.92 | 10.77 | 11.62 | 12.47 | 13.85
7 | 8.31 | 9.77 | 10.40 | 11.57 | 12.29 | 12.79 | 14.68
8 | 8.93 | 10.28 | 11.13 | 11.97 | 12.82 | 13.66 | 15.51
9 | 9.49 | 10.89 | 11.76 | 12.63 | 13.49 | 14.36 | 16.34
10 | 10.09 | 11.56 | 12.49 | 13.42 | 14.35 | 15.27 | 17.17
11 | 10.54 | 12.14 | 13.16 | 14.18 | 15.21 | 16.23 | 18.00
12 | 11.07 | 12.72 | 13.79 | 14.86 | 15.93 | 16.99 | 18.91
13 | 11.24 | 13.03 | 14.21 | 15.39 | 16.62 | 17.75 | 19.81
14 | 11.41 | 13.33 | 14.63 | 15.93 | 17.31 | 18.50 | 20.71
15 | 11.58 | 13.64 | 15.05 | 16.46 | 17.97 | 19.27 | 21.62
16 | 11.76 | 13.94 | 15.47 | 17.00 | 18.59 | 20.01 | 22.53
17 | 12.28 | 14.25 | 15.89 | 17.53 | 19.22 | 20.77 | 23.43
18 | 12.80 | 14.56 | 16.31 | 18.06 | 19.82 | 21.54 | 24.34
19 | 12.99 | 14.86 | 16.73 | 18.60 | 20.44 | 22.29 | 25.23
20 | 13.18 | 15.17 | 17.15 | 19.13 | 21.05 | 23.04 | 26.15
21 | 13.38 | 15.47 | 17.57 | 19.67 | 21.71 | 23.82 | 27.07
22 | 13.57 | 15.78 | 17.99 | 20.20 | 22.37 | 24.59 | 28.00
23 | 13.76 | 16.08 | 18.41 | 20.74 | 23.04 | 25.37 | 28.92
24 | 13.95 | 16.39 | 18.83 | 21.27 | 23.70 | 26.14 | 29.85
25 | 14.14 | 16.70 | 19.25 | 21.81 | 24.36 | 26.92 | 30.77
26 | 14.35 | 17.02 | 19.69 | 22.36 | 25.02 | 27.69 | 31.70
27 | 14.56 | 17.35 | 20.13 | 22.91 | 25.69 | 28.47 | 32.62
28 | 14.78 | 17.67 | 20.56 | 23.46 | 26.35 | 29.24 | 33.54
29 | 14.99 | 17.99 | 21.00 | 24.01 | 27.01 | 30.02 | 34.47
30 | 15.20 | 18.32 | 21.44 | 24.56 | 27.67 | 30.79 | 35.39
31 | 15.46 | 18.64 | 21.87 | 25.11 | 28.34 | 31.57 | 36.32
32 | 15.77 | 18.97 | 22.31 | 25.66 | 29.00 | 32.34 | 37.24
33 | 16.09 | 19.29 | 22.75 | 26.20 | 29.66 | 33.12 | 38.17
34 | 16.40 | 19.62 | 23.19 | 26.75 | 30.32 | 33.89 | 39.09
35 | 16.71 | 19.94 | 23.62 | 27.30 | 30.98 | 34.67 | 40.02

d. NDC Presort Machinable Nonbarcoded and Nonmachinable

Weight not over (pounds) | Zones 1 & 2 ($) | Zone 3 ($) | Zone 4 ($) | Zone 5 ($) | Zone 6 ($) | Zone 7 ($) | Zone 8 ($)
1 | 4.87 | 4.92 | 5.02 | 5.07 | 5.12 | 5.18 | 5.26
2 | 4.97 | 5.32 | 5.97 | 7.24 | 7.79 | 8.29 | 9.12
3 | 5.69 | 6.54 | 7.53 | 8.33 | 9.04 | 9.53 | 10.53
4 | 6.40 | 7.41 | 8.42 | 9.49 | 10.47 | 11.20 | 12.22
5 | 7.19 | 8.51 | 9.42 | 10.33 | 11.24 | 12.15 | 13.05
6 | 7.80 | 9.10 | 9.95 | 10.80 | 11.65 | 12.50 | 13.88
7 | 8.34 | 9.80 | 10.43 | 11.60 | 12.32 | 12.82 | 14.71
8 | 8.96 | 10.31 | 11.16 | 12.00 | 12.85 | 13.69 | 15.54
9 | 9.52 | 10.92 | 11.79 | 12.66 | 13.52 | 14.39 | 16.37
10 | 10.12 | 11.59 | 12.52 | 13.45 | 14.38 | 15.30 | 17.20
11 | 10.57 | 12.17 | 13.19 | 14.21 | 15.24 | 16.26 | 18.03
12 | 11.10 | 12.75 | 13.82 | 14.89 | 15.96 | 17.02 | 18.94
13 | 11.27 | 13.06 | 14.24 | 15.42 | 16.65 | 17.78 | 19.84
14 | 11.44 | 13.36 | 14.66 | 15.96 | 17.34 | 18.53 | 20.74
15 | 11.61 | 13.67 | 15.08 | 16.49 | 18.00 | 19.30 | 21.65
16 | 11.79 | 13.97 | 15.50 | 17.03 | 18.62 | 20.04 | 22.56
17 | 12.31 | 14.28 | 15.92 | 17.56 | 19.25 | 20.80 | 23.46
18 | 12.83 | 14.59 | 16.34 | 18.09 | 19.85 | 21.57 | 24.37
19 | 13.02 | 14.89 | 16.76 | 18.63 | 20.47 | 22.32 | 25.26
20 | 13.21 | 15.20 | 17.18 | 19.16 | 21.08 | 23.07 | 26.18
21 | 13.41 | 15.50 | 17.60 | 19.70 | 21.74 | 23.85 | 27.10
22 | 13.60 | 15.81 | 18.02 | 20.23 | 22.40 | 24.62 | 28.03
23 | 13.79 | 16.11 | 18.44 | 20.77 | 23.07 | 25.40 | 28.95
24 | 13.98 | 16.42 | 18.86 | 21.30 | 23.73 | 26.17 | 29.88
25 | 14.17 | 16.73 | 19.28 | 21.84 | 24.39 | 26.95 | 30.80
26 | 14.38 | 17.05 | 19.72 | 22.39 | 25.05 | 27.72 | 31.73
27 | 14.59 | 17.38 | 20.16 | 22.94 | 25.72 | 28.50 | 32.65
28 | 14.81 | 17.70 | 20.59 | 23.49 | 26.38 | 29.27 | 33.57
29 | 15.02 | 18.02 | 21.03 | 24.04 | 27.04 | 30.05 | 34.50
30 | 15.23 | 18.35 | 21.47 | 24.59 | 27.70 | 30.82 | 35.42
31 | 15.49 | 18.67 | 21.90 | 25.14 | 28.37 | 31.60 | 36.35
32 | 15.80 | 19.00 | 22.34 | 25.69 | 29.03 | 32.37 | 37.27
33 | 16.12 | 19.32 | 22.78 | 26.23 | 29.69 | 33.15 | 38.20
34 | 16.43 | 19.65 | 23.22 | 26.78 | 30.35 | 33.92 | 39.12
35 | 16.74 | 19.97 | 23.65 | 27.33 | 31.01 | 34.70 | 40.05
36 | 16.90 | 20.30 | 24.09 | 27.88 | 31.68 | 35.47 | 40.97
37 | 17.06 | 20.62 | 24.53 | 28.43 | 32.34 | 36.24 | 41.90
38 | 17.22 | 20.95 | 24.97 | 28.98 | 33.00 | 37.02 | 42.82
39 | 17.37 | 21.27 | 25.40 | 29.53 | 33.66 | 37.79 | 43.75
40 | 17.53 | 21.60 | 25.84 | 30.08 | 34.33 | 38.57 | 44.67
41 | 17.68 | 21.92 | 26.28 | 30.63 | 34.99 | 39.34 | 45.60
42 | 17.84 | 22.25 | 26.72 | 31.18 | 35.65 | 40.12 | 46.52
43 | 18.00 | 22.57 | 27.15 | 31.73 | 36.31 | 40.89 | 47.45
44 | 18.21 | 22.90 | 27.59 | 32.28 | 36.98 | 41.67 | 48.37
45 | 18.42 | 23.22 | 28.03 | 32.83 | 37.64 | 42.44 | 49.30
46 | 18.63 | 23.55 | 28.47 | 33.38 | 38.30 | 43.22 | 50.22
47 | 18.84 | 23.87 | 28.90 | 33.93 | 38.96 | 43.99 | 51.15
48 | 19.05 | 24.20 | 29.34 | 34.48 | 39.63 | 44.77 | 52.07
49 | 19.27 | 24.52 | 29.78 | 35.03 | 40.29 | 45.54 | 53.00
50 | 19.48 | 24.85 | 30.21 | 35.58 | 40.95 | 46.32 | 53.92
51 | 19.69 | 25.03 | 30.46 | 35.93 | 41.53 | 47.09 | 54.85
52 | 19.90 | 25.21 | 30.70 | 36.28 | 42.10 | 47.87 | 55.77
53 | 20.12 | 25.39 | 30.95 | 36.63 | 42.67 | 48.64 | 56.70
54 | 20.33 | 25.57 | 31.19 | 36.97 | 43.25 | 49.42 | 57.62
55 | 20.54 | 25.75 | 31.44 | 37.32 | 43.82 | 50.19 | 58.55
56 | 20.75 | 25.93 | 31.68 | 37.67 | 44.40 | 50.97 | 59.47
57 | 20.97 | 26.11 | 31.93 | 38.02 | 44.97 | 51.74 | 60.40
58 | 21.18 | 26.30 | 32.17 | 38.36 | 45.55 | 52.52 | 61.32
59 | 21.39 | 26.48 | 32.41 | 38.71 | 46.12 | 53.29 | 62.25
60 | 21.60 | 26.66 | 32.66 | 39.06 | 46.70 | 54.07 | 63.17
61 | 21.82 | 26.84 | 32.90 | 39.41 | 47.27 | 54.84 | 64.10
62 | 22.03 | 27.02 | 33.15 | 39.75 | 47.85 | 55.62 | 65.02
63 | 22.24 | 27.20 | 33.39 | 40.10 | 48.42 | 56.39 | 65.95
64 | 22.45 | 27.38 | 33.64 | 40.45 | 49.00 | 57.17 | 66.87
65 | 22.67 | 27.56 | 33.88 | 40.80 | 49.57 | 57.94 | 67.80
66 | 22.88 | 27.74 | 34.12 | 41.15 | 50.15 | 58.72 | 68.72
67 | 23.09 | 27.92 | 34.37 | 41.49 | 50.72 | 59.49 | 69.64
68 | 23.30 | 28.11 | 34.61 | 41.84 | 51.30 | 60.26 | 70.57
69 | 23.51 | 28.29 | 34.86 | 42.19 | 51.87 | 61.04 | 71.49
70 | 23.73 | 28.47 | 35.10 | 42.54 | 52.45 | 61.81 | 72.42
Oversized | 65.90 | 73.99 | 75.60 | 77.84 | 98.25 | 106.34 | 114.43

e. Barcoded Nonpresort

Weight not over (pounds) | Zones 1 & 2 ($) | Zone 3 ($) | Zone 4 ($) | Zone 5 ($) | Zone 6 ($) | Zone 7 ($) | Zone 8 ($)
1 | 5.07 | 5.12 | 5.22 | 5.27 | 5.32 | 5.38 | 5.46
2 | 5.17 | 5.52 | 6.17 | 7.44 | 7.99 | 8.49 | 9.32
3 | 5.89 | 6.74 | 7.73 | 8.53 | 9.24 | 9.73 | 10.73
4 | 6.60 | 7.61 | 8.62 | 9.69 | 10.67 | 11.40 | 12.42
5 | 7.39 | 8.71 | 9.62 | 10.53 | 11.44 | 12.35 | 13.25
6 | 8.00 | 9.30 | 10.15 | 11.00 | 11.85 | 12.70 | 14.08
7 | 8.54 | 10.00 | 10.63 | 11.80 | 12.52 | 13.02 | 14.91
8 | 9.16 | 10.51 | 11.36 | 12.20 | 13.05 | 13.89 | 15.74
9 | 9.72 | 11.12 | 11.99 | 12.86 | 13.72 | 14.59 | 16.57
10 | 10.32 | 11.79 | 12.72 | 13.65 | 14.58 | 15.50 | 17.40
11 | 10.77 | 12.37 | 13.39 | 14.41 | 15.44 | 16.46 | 18.23
12 | 11.30 | 12.95 | 14.02 | 15.09 | 16.16 | 17.22 | 19.14
13 | 11.47 | 13.26 | 14.44 | 15.62 | 16.85 | 17.98 | 20.04
14 | 11.64 | 13.56 | 14.86 | 16.16 | 17.54 | 18.73 | 20.94
15 | 11.81 | 13.87 | 15.28 | 16.69 | 18.20 | 19.50 | 21.85
16 | 11.99 | 14.17 | 15.70 | 17.23 | 18.82 | 20.24 | 22.76
17 | 12.51 | 14.48 | 16.12 | 17.76 | 19.45 | 21.00 | 23.66
18 | 13.03 | 14.79 | 16.54 | 18.29 | 20.05 | 21.77 | 24.57
19 | 13.22 | 15.09 | 16.96 | 18.83 | 20.67 | 22.52 | 25.46
20 | 13.41 | 15.40 | 17.38 | 19.36 | 21.28 | 23.27 | 26.38
21 | 13.61 | 15.70 | 17.80 | 19.90 | 21.94 | 24.05 | 27.30
22 | 13.80 | 16.01 | 18.22 | 20.43 | 22.60 | 24.82 | 28.23
23 | 13.99 | 16.31 | 18.64 | 20.97 | 23.27 | 25.60 | 29.15
24 | 14.18 | 16.62 | 19.06 | 21.50 | 23.93 | 26.37 | 30.08
25 | 14.37 | 16.93 | 19.48 | 22.04 | 24.59 | 27.15 | 31.00
26 | 14.58 | 17.25 | 19.92 | 22.59 | 25.25 | 27.92 | 31.93
27 | 14.79 | 17.58 | 20.36 | 23.14 | 25.92 | 28.70 | 32.85
28 | 15.01 | 17.90 | 20.79 | 23.69 | 26.58 | 29.47 | 33.77
29 | 15.22 | 18.22 | 21.23 | 24.24 | 27.24 | 30.25 | 34.70
30 | 15.43 | 18.55 | 21.67 | 24.79 | 27.90 | 31.02 | 35.62
31 | 15.69 | 18.87 | 22.10 | 25.34 | 28.57 | 31.80 | 36.55
32 | 16.00 | 19.20 | 22.54 | 25.89 | 29.23 | 32.57 | 37.47
33 | 16.32 | 19.52 | 22.98 | 26.43 | 29.89 | 33.35 | 38.40
34 | 16.63 | 19.85 | 23.42 | 26.98 | 30.55 | 34.12 | 39.32
35 | 16.94 | 20.17 | 23.85 | 27.53 | 31.21 | 34.90 | 40.25

f. Balloon Rate

Pieces exceeding 84 inches in length and girth combined (but not more than 108 inches) and weighing less than 20 pounds are subject to a price equal to that for a 20-pound parcel for the zone to which the parcel is addressed.

g. Oversized Price

Regardless of weight, any piece that measures more than 108 inches (but not more than 130 inches) in combined length plus girth must pay the oversized price.

2120 Parcel Return Service

2120.1 Description

a. Parcel Return Service mail consists of returned merchandise meeting preparation and entry requirements, which is retrieved in bulk at designated facilities, with postage paid by the addressee.

b. Any mailable matter may be mailed as Parcel Return Service mail, except matter required to be mailed by First-Class Mail or Priority Mail services; and publications required to be entered as Periodicals mail.

c. Parcel Return Service mail is not sealed against postal inspection. Mailing of matter as such constitutes consent by the mailer to postal inspection of the contents, regardless of the physical closure.

d. Undeliverable-as-addressed Parcel Return Service pieces will be forwarded on request of the addressee or forwarded or returned on request of the mailer, subject to the applicable Single-Piece Parcel Post price when forwarded or returned from one Post Office location to another. Pieces which combine Parcel Return Service matter with First-Class Mail or Standard Mail matter will be forwarded or returned if undeliverable-as-addressed, as specified in the Domestic Mail Manual.

e. Payment of an annual mailing permit fee and an account maintenance fee are required for Parcel Return Service (1505.2).

f. Attachments and Enclosures. First-Class Mail or Standard Mail pieces may be attached to or enclosed in Parcel Return Service mail. Additional postage may be required. Parcel Return Service mail may have limited written additions placed on the wrapper, on a tag or label attached to the outside of the parcel, or inside the parcel, either loose or attached to the article.

2120.2 Size and Weight Limitations

| Length | Height | Thickness | Weight
Minimum | Large enough to accommodate postage, address, and other required elements on the address side |  |  | None.
Maximum | 130 inches in combined length and girth |  |  | 70 pounds.

2120.3 Minimum Volume Requirements

| Minimum volume requirements
Parcel Return Service | None

2120.4 Price Categories

• RNDC (Contains merchandise and is retrieved in bulk at a network distribution center, or other equivalent facility.)

○ Machinable

○ Nonmachinable

○ Balloon Rate

○ Oversized

• RDU (Contains merchandise and is retrieved in bulk at a designated destination delivery unit, or other equivalent facility.)

○ Machinable

○ Nonmachinable

○ Oversized

2120.5 Optional Features

The following additional postal services may be available in conjunction with the product specified in this section:

• Ancillary Services (1505)

○ Certificate of Mailing (1505.6)

2120.6 Prices

RNDC Entered

a. Machinable RNDC

Maximum weight (pounds) | RNDC Zones 1 & 2 ($) | RNDC Zone 3 ($) | RNDC Zone 4 ($) | RNDC Zone 5 ($)
1 | 3.14 | 3.14 | 3.14 | 3.14
2 | 3.59 | 3.59 | 3.59 | 3.59
3 | 4.09 | 4.09 | 4.09 | 4.09
4 | 4.65 | 4.65 | 4.65 | 4.65
5 | 5.15 | 5.15 | 5.15 | 5.15
6 | 5.61 | 5.61 | 5.61 | 5.61
7 | 6.01 | 6.01 | 6.01 | 6.01
8 | 6.66 | 6.66 | 6.66 | 6.66
9 | 7.05 | 7.05 | 7.05 | 7.05
10 | 7.42 | 7.42 | 7.42 | 7.42
11 | 7.65 | 7.65 | 7.65 | 7.65
12 | 7.97 | 7.97 | 7.97 | 7.97
13 | 8.25 | 8.25 | 8.25 | 8.25
14 | 8.45 | 8.45 | 8.45 | 8.45
15 | 8.59 | 8.59 | 8.59 | 8.59
16 | 8.83 | 8.83 | 8.83 | 8.83
17 | 9.06 | 9.06 | 9.06 | 9.06
18 | 9.24 | 9.24 | 9.24 | 9.24
19 | 9.46 | 9.46 | 9.46 | 9.46
20 | 9.63 | 9.63 | 9.63 | 9.63
21 | 9.83 | 9.83 | 9.83 | 9.83
22 | 10.15 | 10.15 | 10.15 | 10.15
23 | 10.29 | 10.29 | 10.29 | 10.29
24 | 10.37 | 10.37 | 10.37 | 10.37
25 | 10.62 | 10.62 | 10.62 | 10.62
26 | 10.73 | 10.73 | 10.73 | 10.73
27 | 10.84 | 10.84 | 10.84 | 10.84
28 | 10.89 | 10.89 | 10.89 | 10.89
29 | 11.06 | 11.06 | 11.06 | 11.06
30 | 11.29 | 11.29 | 11.29 | 11.29
31 | 11.29 | 11.29 | 11.29 | 11.29
32 | 11.48 | 11.48 | 11.48 | 11.48
33 | 11.67 | 11.67 | 11.67 | 11.67
34 | 11.68 | 11.68 | 11.68 | 11.68
35 | 11.97 | 11.97 | 11.97 | 11.97

b. Nonmachinable RNDC

Maximum weight (pounds) | RNDC Zones 1 & 2 ($) | RNDC Zone 3 ($) | RNDC Zone 4 ($) | RNDC Zone 5 ($)
1 | 5.48 | 5.48 | 5.48 | 5.48
2 | 5.93 | 5.93 | 5.93 | 5.93
3 | 6.43 | 6.43 | 6.43 | 6.43
4 | 6.99 | 6.99 | 6.99 | 6.99
5 | 7.49 | 7.49 | 7.49 | 7.49
6 | 7.95 | 7.95 | 7.95 | 7.95
7 | 8.35 | 8.35 | 8.35 | 8.35
8 | 9.00 | 9.00 | 9.00 | 9.00
9 | 9.39 | 9.39 | 9.39 | 9.39
10 | 9.76 | 9.76 | 9.76 | 9.76
11 | 9.99 | 9.99 | 9.99 | 9.99
12 | 10.31 | 10.31 | 10.31 | 10.31
13 | 10.59 | 10.59 | 10.59 | 10.59
14 | 10.79 | 10.79 | 10.79 | 10.79
15 | 10.93 | 10.93 | 10.93 | 10.93
16 | 11.17 | 11.17 | 11.17 | 11.17
17 | 11.40 | 11.40 | 11.40 | 11.40
18 | 11.58 | 11.58 | 11.58 | 11.58
19 | 11.80 | 11.80 | 11.80 | 11.80
20 | 11.97 | 11.97 | 11.97 | 11.97
21 | 12.17 | 12.17 | 12.17 | 12.17
22 | 12.49 | 12.49 | 12.49 | 12.49
23 | 12.63 | 12.63 | 12.63 | 12.63
24 | 12.71 | 12.71 | 12.71 | 12.71
25 | 12.96 | 12.96 | 12.96 | 12.96
26 | 13.07 | 13.07 | 13.07 | 13.07
27 | 13.18 | 13.18 | 13.18 | 13.18
28 | 13.23 | 13.23 | 13.23 | 13.23
29 | 13.40 | 13.40 | 13.40 | 13.40
30 | 13.63 | 13.63 | 13.63 | 13.63
31 | 13.63 | 13.63 | 13.63 | 13.63
32 | 13.82 | 13.82 | 13.82 | 13.82
33 | 14.01 | 14.01 | 14.01 | 14.01
34 | 14.02 | 14.02 | 14.02 | 14.02
35 | 14.31 | 14.31 | 14.31 | 14.31
36 | 14.35 | 14.35 | 14.35 | 14.35
37 | 14.54 | 14.54 | 14.54 | 14.54
38 | 14.56 | 14.56 | 14.56 | 14.56
39 | 14.61 | 14.61 | 14.61 | 14.61
40 | 14.74 | 14.74 | 14.74 | 14.74
41 | 14.75 | 14.75 | 14.75 | 14.75
42 | 14.81 | 14.81 | 14.81 | 14.81
43 | 14.82 | 14.82 | 14.82 | 14.82
44 | 14.86 | 14.86 | 14.86 | 14.86
45 | 15.04 | 15.04 | 15.04 | 15.04
46 | 15.11 | 15.11 | 15.11 | 15.11
47 | 15.13 | 15.13 | 15.13 | 15.13
48 | 15.36 | 15.36 | 15.36 | 15.36
49 | 15.38 | 15.38 | 15.38 | 15.38
50 | 15.39 | 15.39 | 15.39 | 15.39
51 | 15.45 | 15.45 | 15.45 | 15.45
52 | 15.55 | 15.55 | 15.55 | 15.55
53 | 15.61 | 15.61 | 15.61 | 15.61
54 | 15.62 | 15.62 | 15.62 | 15.62
55 | 15.62 | 15.62 | 15.62 | 15.62
56 | 15.65 | 15.65 | 15.65 | 15.65
57 | 15.92 | 15.92 | 15.92 | 15.92
58 | 15.93 | 15.93 | 15.93 | 15.93
59 | 15.96 | 15.96 | 15.96 | 15.96
60 | 15.97 | 15.97 | 15.97 | 15.97
61 | 15.98 | 15.98 | 15.98 | 15.98
62 | 15.99 | 15.99 | 15.99 | 15.99
63 | 16.12 | 16.12 | 16.12 | 16.12
64 | 16.15 | 16.15 | 16.15 | 16.15
65 | 16.22 | 16.22 | 16.22 | 16.22
66 | 16.22 | 16.22 | 16.22 | 16.22
67 | 16.25 | 16.25 | 16.25 | 16.25
68 | 16.26 | 16.26 | 16.26 | 16.26
69 | 16.33 | 16.33 | 16.33 | 16.33
70 | 16.36 | 16.36 | 16.36 | 16.36
Oversized | 34.20 | 34.20 | 34.20 | 34.20

c. Balloon Rate

RNDC entered pieces exceeding 84 inches in length and girth combined, but not more than 108 inches, and weighing less than 20 pounds are subject to a price equal to that for a 20-pound parcel for the zone to which the parcel is addressed.

d. Oversized Pieces

Regardless of weight, any piece that measures more than 108 inches (but not more than 130 inches) in combined length plus girth must pay the oversized price.

RDU Entered

a. Machinable and Nonmachinable RDU to 35 Pounds

Maximum weight (pounds) | RDU ($)
1 | 1.85
2 | 1.88
3 | 1.90
4 | 1.95
5 | 2.02
6 | 2.08
7 | 2.14
8 | 2.20
9 | 2.26
10 | 2.30
11 | 2.34
12 | 2.43
13 | 2.51
14 | 2.59
15 | 2.67
16 | 2.74
17 | 2.82
18 | 2.88
19 | 2.96
20 | 3.02
21 | 3.08
22 | 3.13
23 | 3.19
24 | 3.24
25 | 3.31
26 | 3.36
27 | 3.41
28 | 3.45
29 | 3.50
30 | 3.54
31 | 3.58
32 | 3.64
33 | 3.68
34 | 3.71
35 | 3.75

b. Nonmachinable RDU above 35 pounds

Maximum weight (pounds) | RDU ($)
36 | 3.80
37 | 3.83
38 | 3.87
39 | 3.90
40 | 3.93
41 | 3.97
42 | 4.00
43 | 4.03
44 | 4.06
45 | 4.09
46 | 4.12
47 | 4.14
48 | 4.17
49 | 4.20
50 | 4.22
51 | 4.24
52 | 4.28
53 | 4.31
54 | 4.33
55 | 4.35
56 | 4.38
57 | 4.40
58 | 4.42
59 | 4.44
60 | 4.45
61 | 4.47
62 | 4.49
63 | 4.51
64 | 4.53
65 | 4.54
66 | 4.56
67 | 4.57
68 | 4.59
69 | 4.61
70 | 4.62
Oversized | 7.91

c. Oversized Pieces

Regardless of weight, any piece that measures more than 108 inches (but not more than 130 inches) in combined length plus girth must pay the oversized price.

2125 Premium Forwarding Service

2125.1 Description

a. Premium Forwarding Service provides residential delivery customers, and certain post office box customers, the option to receive substantially all mail addressed to a primary address instead at a temporary address by means of a weekly Priority Mail shipment. Parcels that are too large for the weekly shipment, mail pieces that require a scan upon delivery or arrive postage due at the office serving the customer's primary address, and certain Priority Mail pieces may be rerouted as specified in the Domestic Mail Manual. Rerouted Express Mail, First-Class Mail, and Priority Mail pieces incur no additional reshipping charges. Rerouted Standard Mail and Package Service pieces may be rerouted postage due.

b. Mail sent to a primary address for which an addressee has activated Premium Forwarding Service is not treated as undeliverable-as-addressed.

c. Premium Forwarding Service is available for a period of at least two weeks and not more than twelve months. Customers may not use Premium Forwarding Service simultaneously with temporary or permanent forwarding orders. Premium Forwarding Service is not available to customers whose primary address consists of a size three, four or five post office box, subject to exceptions allowed by the Postal Service, or a centralized delivery point.

2125.2 Prices

| ($)
Enrollment | 15.00
Weekly Reshipment | 14.75

2130 Post Office Box Service

2130.1 Description

a. Post Office Box service provides the customer with a locked receptacle for the receipt of mail during specified hour of access to the receptacle.

c. Prorated prices are available for postal facilities primarily serving academic institutions or the students of such institutions.

d. The Postal Service may limit the number of post office boxes occupied by any one customer.

e. Post Office Box service is not available to a customer whose sole purpose for using the service is to obtain free forwarding or transfer of mail by filing change-of-address orders.

f. Post Office Box service in the following ZIP Code locations comprise the competitive product:

01730, 01844, 02081, 02112, 02447, 03835, 07002, 07306, 07410, 07624, 08812, 08904, 10021, 10308, 10536, 10920, 11104, 11216, 11361, 11423, 11702, 11937, 19102, 19407, 20001, 20726, 20918, 22101, 22206, 22301, 33427, 60615, 75371, 89009, 89116, 90013, 90266, 90408, 90734, 90803, 90853, 91322, 91404, 91407, 91408, 91609, 92514, 94070, 94507, 94701, 98109, and 99509.

Box Sizes

Box size | Cubic inches
1 | under 296
2 | 296 to 499
3 | 500 to 999
4 | 1000 to 1999
5 | 2000 cubic inches and larger

2130.2 Price Categories

The following price categories are available for the product specified in this section:

• Regular (fees depend on box size and Post Office location)

• Academic Institutions

• Ancillary Post Office Box Services

2130.3 Prices

Regular

Box size | Semi-annual fee group C1 ($) ¹
1 | 37.00-180.00
2 | 55.00-270.00
3 | 100.00-330.00
4 | 205.00-400.00
5 | 325.00-550.00
1. At ZIP Code locations specified on USPS.com, customers who have not had box service for the last six months may obtain an initial 13 months of service for twice the semi-annual fees provided above.

Postal Facilities Primarily Serving Academic Institutions or Their Students

Period of box use (days) | Price
95 or less | ½ semiannual price
96 to 140 | ¾ semiannual price
141 to 190 | Semiannual price
191 to 230 | 1¼ semiannual price
231 to 270 | 1½ semiannual price
271 to full year | Two times semiannual price

Ancillary Post Office Box Services

| ($)
Key duplication or replacement | 6.00
Lock replacement | 15.00
Key deposit ² | 1.00
2. Key deposit only applies to additional keys or replacement keys.

2135 Address Enhancement Service

2135.1 Description

Address Element Correction (AEC)

Address Element Correction (AEC) service identifies and corrects bad or incomplete addresses using enhanced computer logic.

Address Matching System Application Program Interface (AMS API)

The Address Matching System Application Program Interface (AMS API) is a core set of compiled address-matching software instructions that developers incorporate into their software so that address lists can be updated with address data from the following databases, which are integrated into the AMS-API: City State, ZIP + 4, Five-Digit ZIP, eLOT, DPV, and LACSLink.

For an additional fee, a developer may install the AMS-API on multiple computers for its own use. Additional fees are charged if the developer wants to resell its address-matching software.

Developers, for an additional fee, may obtain computer software instructions that permit the API to access the RDI data when licensed separately.¹ Additional fees are charged if the developer wants to resell RDI-API.

¹ These databases are explained in the Address Management Services of the Market Dominant Products List section.

Topological Integrated Geographic Encoding and Referencing (TIGER/ZIP + 4®)

The Topological Integrated Geographic Encoding and Referencing (TIGER/ZIP + 4) service is a bridge file that allows mailers to access other information using the ZIP + 4 codes they already have associated with their addresses. This file offers demographers and market researchers a method to relate ZIP + 4 coded address lists to Census Bureau demographic data.

2135.2 Prices

| ($)
Address Element Correction (AEC):
(per record processed) | 0.016
Minimum charge per list | 16.00
Address Matching System Application Program Interface (AMS API) (per year, per platform):
Developer's Kit, one platform | 4,000.00
Each Additional, per platform | 1,450.00
Additional Database License |
Number of additional licenses
1-100 | 2,145.00
101-200 | 4,285.00
201-300 | 6,425.00
301-400 | 8,570.00
401-500 | 10,710.00
501-600 | 12,850.00
601-700 | 14,995.00
701-800 | 17,135.00
801-900 | 19,280.00
901-1,000 | 21,420.00
1,001-10,000 | 27,845.00
10,001-20,000 | 34,270.00
20,001-30,000 | 40,700.00
30,001-40,000 | 47,125.00
Resell License, one platform | 17,500.00
Each Additional, per platform | 8,800.00
RDI API Developer's Kit:
Each, per platform | 315.00
Resell License, one platform | 1,250.00
Each Additional, per platform | 650.00
Above API License Fees prorated during the first year based on the date of the license agreement.
Additional Database Discs, DVD:
AMS API: DPV, LACS Link and/or eLOT | 10.50
IBIP version of above (DVD Only) | 10.50
Additional database, e.g., City-State, ZIP + 4, Five-Digit | 10.50
Additional Database Discs, CD ROM:
AMS-API: DPV and LACS Link API | 24.00
eLOT | 8.00
Additional database, e.g., City-State, ZIP + 4, Five-Digit | 8.00
TIGER/ZIP+4 ® (per year):
CD-ROM Per State | 55.00
CD-ROM All States | 750.00

2140 Shipping and Mailing Supplies

2140.1 Description

The Shipping and Mailing Supplies product includes packaging materials that are used to package, seal, protect, and label items for mailing.

Mailers—Mailers include envelopes of various sizes that may or may not have added cushioning.

Cartons—Cartons are boxes of various sizes.

Supplies—Supplies include tape, bubble wrap, labels, and related material.

* * * * *

2140.2 Prices

* * * * *

| ($)
Mailers | 0.39 to 25.00
Cartons | 0.99 to 25.00
Supplies | 0.49 to 14.65

2145 Greeting Cards, Stationery, and Related Items

2145.1 Description

Greeting Cards, Stationery, and Related Items include items designed to be used to mail personal messages.

Greeting cards—Greeting cards include cards with envelopes and may be sold individually or as sets.

Stationery—Stationery includes paper, envelopes, postcards, note cards, and note pads and are sometimes packaged as sets.

2145.2 Prices

| ($)
Greeting Cards | 0.99 to 25.00
Stationery | 0.10 to 75.99

2200 INTERNATIONAL PRODUCTS

2205 Outbound International Expedited Services

2205.1 Description

Outbound International Expedited Services (Global Express Guaranteed and Express Mail International) provide expedited service to designated outbound international destinations according to requirements specified in the International Mail Manual.

Global Express Guaranteed

a. Global Express Guaranteed (GXG) service offers a postage-refund guarantee for date-certain delivery from select Post Offices to select foreign destinations.

b. Documents and general correspondence, including matter containing personal information, partially or wholly hand-written or typewritten matter, or bills or statements of account (non-dutiable items) and non-documents (all dutiable items including merchandise) may be shipped using Global Express Guaranteed service.

c. Document reconstruction and non-document insurance for loss or damage up to $100.00 per shipment are included at no additional charge. Additional insurance may be purchased for document and non-document shipments.

d. Only Global Express Guaranteed items that contain documents are sealed against inspection and shall not be opened except as authorized by law.

Express Mail International

a. Express Mail International (EMI) offers transit times that can be longer than for Global Express Guaranteed. Express Mail International with guarantee service provides a postage-refund guarantee for date-certain delivery to a limited number of foreign destinations.

b. Any item not prohibited in international mail may be sent using Express Mail International, including matter containing personal information, partially or wholly hand-written or typewritten matter, or bills or statements of account.

c. Document reconstruction and merchandise insurance up to $100.00 is included in the price of postage. Additional merchandise insurance may be purchased at the time of mailing. Additional document reconstruction insurance may not be purchased.

d. Express Mail International is sealed against inspection and shall not be opened except as authorized by law.

2205.2 Size and Weight Limitations

Global Express Guaranteed

| Length | Height | Thickness | Weight
Minimum | Must be able to hold the shipping label with pouch and postage |  |  | None
Maximum | 46 inches | 35 inches | 46 inches | 70 pounds
| 108 inches in combined length and girth

Express Mail International ¹

| Length | Height | Thickness | Weight
Minimum | Large enough to accommodate postage, address, and other required elements on the address side |  |  | 70 pounds
Maximum | 36 inches
| 79 inches in combined length and girth
Flat Rate Envelopes | Nominal Size: 9.5 x 12½ inches Legal Size: 15 x 9 ½ inches
Notes:¹ Country-specific restrictions may apply as specified in the International Mail Manual.

2205.3 Minimum Volume Requirements

| Minimum volume requirements
Global Express Guaranteed | None
Express Mail International | None

2205.4 Price Categories

The following price categories are available for the product specified in this section:

Global Express Guaranteed

• Price Groups 1-8

Express Mail International

2205.5 Optional Features

The following additional postal services may be available in conjunction with the product specified in this section:

• Pickup On Demand

2205.6 Prices

Global Express Guaranteed

Express Mail International

Express Mail International: Weight-Based Retail Prices

Pickup On Demand

Add $15.30 for each Pickup On Demand stop.

Global Express Guaranteed Online Price Incentives

Global Express Guaranteed Permit Imprint Incentives

A discount of 10 percent will be applied to Global Express Guaranteed prices for customers who use approved software for mail preparation.

Express Mail International Online Price Incentives

Express Mail International Permit Imprint Incentives

A discount of 8 percent will be applied to Express Mail International prices for customers using approved software for mail preparation and Customs-related functions.

2215 Outbound Priority Mail International

2215.1 Description

2215.2 Size and Weight Limitations 1 2

Notes

1. Weight and other exceptional size limits based on shape and destination country restrictions may apply.

2. Items must be large enough to accommodate postage, address, and other required elements on the address side.

2215.3 Minimum Volume Requirements

| Minimum volume requirements
Outbound Priority Mail International | None

2215.4 Price Categories

The following price categories are available for the product specified in this section:

• Priority Mail International Flat Rate Envelopes

o Canada and Mexico

o All other countries

• Priority Mail International Flat Rate Boxes

o Canada and Mexico

o All other countries

• Permit Imprint Incentives

Available to for customers who pay for postage by permit imprint and use approved software for mail preparation and Customs-related functions.

2215.5 Optional Features

The following additional postal services may be available in conjunction with the product specified in this section:

• Pickup On Demand

• International Ancillary Services (2250)

○ International Certificate of Mailing (2250.1)

○ International Registered Mail (2250.2)

○ International Return Receipt (2250.3)

○ International Restricted Delivery (2250.4)

○ International Insurance (2250.5)

2215.7 Prices

Flat Rate Prices:

Priority mail international | Canada & Mexico (price groups 1 & 2) | All other countries (price groups 3 to 17)
Flat Rate Envelopes | $11.95 | $13.95
Letter Post Flat Rate Boxes (Small, DVD, Large Video) | 11.95 | 13.95
Medium Flat Rate Boxes | 27.95 | 45.50
Large Flat Rate Box | 35.50 | 58.50

Pickup On Demand

Add $15.30 for each Pickup On Demand stop.

Online Incentives

A discount of 5 percent will be applied to Priority Mail International prices to selected destination countries.

Permit Imprint Incentives

A discount of 5 percent will be applied to Priority Mail International prices for customers who use approved software for mail preparation and Customs-related functions.

* * * * *

2225 International Priority Airmail (IPA)

2225.1 Description

a. International Priority Airmail is a bulk international airmail service for mailing First-Class Mail International items.

b. International Priority Airmail may include matter containing personal information, partially or wholly hand-written and typewritten matter, bills, or statements of account.

c. International Priority Airmail is not a shipping option for Priority Mail International items, (whether ordinary or insured).

d. International Priority Airmail (except M-Bags) is sealed against inspection and shall not be opened except as authorized by law.

e. International Priority Airmail presorted mail and M-Bags are assigned to a specified price group based on the destination country. A price group may consist of one specific country or multiple countries. To determine the price group for a destination country, refer to the Country Price Group List for International Mail (4000).

2225.2 Size and Weight Limitations

a. Letters

| Length | Height | Thickness | Weight
Minimum | 5.5 inches | 3.5 inches | 0.007 inch | none
Maximum | 11.5 inches | 6.125 inches | 0.25 inch | 3.5 ounces

b. Postcards

| Length | Height | Thickness | Weight
Minimum | 5.5 inches | 3.5 inches | 0.007 inch | none
Maximum | 6 inches | 4.25 inches | 0.016 inch | Not applicable

c. Large Envelopes (Flats)

| Length | Height | Thickness | Weight
Minimum¹ | 11.5 inches | 6.125 inches | 0.25 inch | none
Maximum | 15 inches | 12 inches | 0.75 inch | 4 pounds

d. Packages (Small Packets)

| Length | Height | Thickness | Weight
Minimum | large enough to accommodate postage, address, and other required elements on the address side |  |  | none
Maximum | 24 inches |  |  | 4 pounds
| Length plus height plus thickness of 36 inches |  |  |

e. Rolls

| Length | Length plus twice the diameter | Weight
Minimum | 4 inches | 6.75 inches | none
Maximum | 36 inches | 42 inches | 4 pounds

2225.3 Minimum Volume Requirements

To qualify, a minimum quantity of 50 pounds of mail is required which may include a combination of presort mail, worldwide nonpresort mail, or M-bag mail to achieve the 50 pound minimum.

2225.4 Price Categories

The following price categories are available for the product specified in this section:

• Presort Mail (Full Service and ISC Drop Shipment)

○ Price Groups 1-15

• Worldwide Nonpresort Mail (Full Service and ISC Drop Shipment)

○ Worldwide

○ Price Groups 1-15

2225.5 Optional Features

2225.6 Prices

International Priority Airmail

Price group | Direct country sacks: Per piece | Direct country sacks: Full service per Lb. | Direct country sacks: ISC drop shipment per Lb. | Mixed country sacks: Per piece | Mixed country sacks: Full service per Lb. | Mixed country sacks: ISC drop shipment per Lb.
1 | $0.43 | $7.24 | $4.62 |  |  |
2 | 0.16 | 7.02 | 4.40 |  |  |
3 | 0.44 | 9.45 | 6.83 |  |  |
4 | 0.47 | 9.92 | 7.30 |  |  |
5 | 0.45 | 9.65 | 7.03 |  |  |
6 | 0.46 | 9.68 | 7.06 |  |  |
7 | 0.44 | 9.45 | 6.83 |  |  |
8 | 0.43 | 9.45 | 6.83 |  |  |
9 | 0.35 | 10.46 | 7.84 |  |  |
10 | 0.43 | 9.59 | 6.97 |  |  |
11 | 0.42 | 9.45 | 6.83 | 0.44 |  | 7.17
12 | 0.16 | 8.40 | 5.78 | 0.17 |  | 6.07
13 | 0.17 | 7.71 | 5.09 | 0.18 |  | 5.36
14 | 0.16 | 9.45 | 6.83 | 0.17 |  | 7.17
15 | 0.13 | 9.97 | 7.35 | 0.14 |  | 7.72

Worldwide Nonpresorted Sacks
Price group | Per piece | Full service per Lb. | ISC Drop shipment per Lb.
n/a | 0.49 | 11.53 | 8.49

International Priority Airmail M-Bag

a. International Priority Airmail M-Bag (Full Service)

Price group | Full service per Lb.
1 | $4.60
2 | 5.20
3 | 6.10
4 | 6.10
5 | 6.10
6 | 6.10
7 | 6.10
8 | 6.10
9 | 8.10
10 | 7.65
11 | 6.10
12 | 6.90
13 | 6.70
14 | 7.45
15 | 7.35
Note: Full Service M-bags are subject to the minimum price for 11 lbs.

b. International Priority Airmail M-Bag (ISC Drop Shipment)

Price group | 5 lbs. | 6 lbs. | 7 lbs. | 8 lbs. | 9 lbs. | 10 lbs. | 11 lbs. | Each additional pound
1 | 19.30 | 19.75 | 20.20 | 20.65 | 21.10 | 21.55 | 22.00 | 2.00
2 | 25.00 | 25.60 | 26.20 | 26.80 | 27.40 | 28.00 | 28.60 | 2.60
3 | 30.85 | 31.85 | 32.85 | 33.85 | 34.85 | 35.85 | 36.85 | 3.35
4 | 30.85 | 31.85 | 32.85 | 33.85 | 34.85 | 35.85 | 36.85 | 3.35
5 | 30.85 | 31.85 | 32.85 | 33.85 | 34.85 | 35.85 | 36.85 | 3.35
6 | 30.85 | 31.85 | 32.85 | 33.85 | 34.85 | 35.85 | 36.85 | 3.35
7 | 30.85 | 31.85 | 32.85 | 33.85 | 34.85 | 35.85 | 36.85 | 3.35
8 | 30.85 | 31.85 | 32.85 | 33.85 | 34.85 | 35.85 | 36.85 | 3.35
9 | 47.75 | 49.60 | 51.45 | 53.30 | 55.15 | 57.00 | 58.85 | 5.35
10 | 44.50 | 46.25 | 48.00 | 49.75 | 51.50 | 53.25 | 55.00 | 5.00
11 | 30.85 | 31.85 | 32.85 | 33.85 | 34.85 | 35.85 | 36.85 | 3.35
12 | 38.75 | 39.90 | 41.05 | 42.20 | 43.35 | 44.50 | 45.65 | 4.15
13 | 38.65 | 39.45 | 40.25 | 41.05 | 41.85 | 42.65 | 43.45 | 3.95
14 | 44.80 | 45.95 | 47.10 | 48.25 | 49.40 | 50.55 | 51.70 | 4.70
15 | 42.50 | 43.85 | 45.20 | 46.55 | 47.90 | 49.25 | 50.60 | 4.60
Note: ISC Drop Shipment M-bags are subject to the minimum price for 5 lbs]

2230 International Surface Air Lift (ISAL)

2230.1 Description

a. International Surface Air Lift is an international bulk mailing service for mailing First-Class Mail International items. International Surface Air Lift shipments are flown to the foreign destinations and entered into that country's surface or nonpriority mail system for delivery.

b. International Surface Air Lift may include matter containing personal information, partially or wholly hand-written or typewritten matter, or bills or statements of account.

c. International Surface Air Lift (except M-Bags) is sealed against inspection and shall not be opened except authorized by law.

2230.2 Size and Weight Limitations

Mailpiece Requirements (Mailpieces Contained Within M-Bags Are Subject to the Separate International Direct Sacks—M-Bag (2515) Requirements)

a. Letters

| Length | Height | Thickness | Weight
Minimum | 5.5 inches | 3.5 inches | 0.007 inch | none
Maximum | 11.5 inches | 6.125 inches | 0.25 inch | 3.5 ounces

b. Postcards

| Length | Height | Thickness | Weight
Minimum | 5.5 inches | 3.5 inches | 0.007 inch | none
Maximum | 6 inches | 4.25 inches | 0.016 inch | Not applicable

c. Large Envelopes (Flats)

| Length | Height | Thickness | Weight
Minimum¹ | 11.5 inches | 6.125 inches | 0.25 inch | none
Maximum | 15 inches | 12 inches | 0.75 inches | 4 pounds

Notes

d. Packages (Small Packets)

| Length | Height | Thickness | Weight
Minimum | large enough to accommodate postage, address, and other required elements on the address side |  |  | none
Maximum | 24 inches |  |  | 4 pounds
| Length plus height plus thickness of 36 inches

e. Rolls

| Length | Length plus twice the diameter | Weight
Minimum | 4 inches | 6.75 inches | none
Maximum | 36 inches | 42 inches | 4 pounds

2230.3 Minimum Volume Requirements

To qualify, a minimum quantity of 50 pounds of mail is required which may include a combination of presort mail, worldwide presort mail, or M-bag mail to achieve the 50 pound minimum.

2230.4 Price Categories

The following price categories are available for the product specified in this section:

• International Surface Air Lift (Full Service and ISC Drop Shipment)

○ Price Groups 1-15

• International Surface Air Lift M-Bags (Full Service and ISC Drop Shipment)

○ Price Groups 1-15

2230.5 Optional Features

The following additional postal services may be available in conjunction with the product specified in this section:

• None

2230.6 Prices

International Surface Air Lift (Full Service and ISC Drop Shipment)

The price is determined by adding the applicable per-piece price to the applicable per-pound price. The per-piece price applies to each mailpiece regardless of weight. The per-pound price applies to the net weight (gross weight of the sack minus the tare weight of the sack) of the mail for the specific rate group.

Price group | Direct country sacks: Per piece | Direct country sacks: Full service per lb. | Direct country sacks: ISC drop shipment per lb. | Mixed country sacks: Per piece | Mixed country sacks: Full service per lb. | Mixed country sacks: ISC Drop shipment per lb.
1 | $0.46 | $4.14 | $3.06 |  |  |
2 | 0.13 | 5.10 | 4.05 |  |  |
3 | 0.46 | 4.76 | 3.70 |  |  |
4 | 0.46 | 4.93 | 3.86 |  |  |
5 | 0.46 | 4.83 | 3.77 |  |  |
6 | 0.45 | 4.69 | 3.64 |  |  |
7 | 0.46 | 4.89 | 3.84 |  |  |
8 | 0.45 | 4.67 | 3.62 |  |  |
9 | 0.33 | 5.00 | 3.95 |  |  |
10 | 0.49 | 5.02 | 3.95 |  |  |
11 | 0.45 | 4.71 | 3.66 | 0.48 |  | 3.85
12 | 0.16 | 5.72 | 4.67 | 0.17 |  | 4.91
13 | 0.16 | 5.80 | 4.75 | 0.17 |  | 5.00
14 | 0.16 | 5.72 | 4.67 | 0.17 |  | 4.91
15 | 0.13 | 6.93 | 5.88 | 0.14 |  | 6.17

Worldwide Nonpresorted Sacks
Price group | Per piece | Full service per lb. | ISC drop shipment per lb.
n/a | $0.54 | $8.01 | $6.79

International Surface Air Lift M-Bags

a. International Surface Air Lift M-Bags (Full Service)

Price group | Full service per lb.
1 | $1.60
2 | 1.70
3 | 2.00
4 | 2.00
5 | 2.00
6 | 2.00
7 | 2.00
8 | 2.00
9 | 3.00
10 | 2.80
11 | 2.03
12 | 2.35
13 | 2.35
14 | 2.60
15 | 3.25
Note: Full Service M-bags are subject to the minimum price for 11 lbs.

b. International Surface Air Lift M-Bag ISC (ISC Drop Shipment)

Price group | 5 lbs. | 6 lbs. | 7 lbs. | 8 lbs. | 9 lbs. | 10 lbs. | 11 lbs. | Each additional pound
1 | 15.90 | 16.00 | 16.10 | 16.20 | 16.30 | 16.40 | 16.50 | 1.50
2 | 14.30 | 14.85 | 15.40 | 15.95 | 16.50 | 17.05 | 17.60 | 1.60
3 | 11.45 | 12.75 | 14.05 | 15.35 | 16.65 | 17.95 | 19.25 | 1.75
4 | 11.45 | 12.75 | 14.05 | 15.35 | 16.65 | 17.95 | 19.25 | 1.75
5 | 11.45 | 12.75 | 14.05 | 15.35 | 16.65 | 17.95 | 19.25 | 1.75
6 | 11.45 | 12.75 | 14.05 | 15.35 | 16.65 | 17.95 | 19.25 | 1.75
7 | 11.45 | 12.75 | 14.05 | 15.35 | 16.65 | 17.95 | 19.25 | 1.75
8 | 11.45 | 12.75 | 14.05 | 15.35 | 16.65 | 17.95 | 19.25 | 1.75
9 | 18.25 | 20.25 | 22.25 | 24.25 | 26.25 | 28.25 | 30.25 | 2.75
10 | 16.25 | 18.40 | 20.55 | 22.70 | 24.85 | 27.00 | 29.15 | 2.65
11 | 11.65 | 12.99 | 14.33 | 15.67 | 17.01 | 18.35 | 19.69 | 1.79
12 | 12.90 | 14.60 | 16.30 | 18.00 | 19.70 | 21.40 | 23.10 | 2.10
13 | 14.40 | 15.85 | 17.30 | 18.75 | 20.20 | 21.65 | 23.10 | 2.10
14 | 12.05 | 14.35 | 16.65 | 18.95 | 21.25 | 23.55 | 25.85 | 2.35
15 | 16.20 | 19.00 | 21.80 | 24.60 | 27.40 | 30.20 | 33.00 | 3.00
Note: ISC Drop Shipment M-bags are subject to the minimum price for 5 lbs.

2235 International Direct Sacks—M-Bags

2235.1 Description

a. International Direct Sacks—M-bags are direct sacks containing printed matter to a single addressee. Printed matter is defined as paper on which words, letters, characters, figures, images, or any combination thereof, not having the character of a bill or statement of account, or of actual or personal correspondence, have been reproduced by any process other than handwriting or typewriting.

b. M-Bags are available for both outbound and inbound international mail.

• Outbound International Direct Sacks—M-bags are direct sacks of printed matter of domestic origin mailed to a single foreign addressee.

• Inbound air and surface International Direct Sacks—M-bags are direct sacks of printed matter of foreign origin mailed to a single domestic addressee.

c. M-bags may include articles of merchandise related to the enclosed printed matter as specified in the International Mail Manual (outbound) or the Universal Postal Convention (inbound).

d. M-Bags are not sealed against inspection. Mailing of matter by such service constitutes consent by the mailer to postal inspection of the contents, regardless of the physical closure.

e. Most prices for international postage are segmented into Price Groups with multiple destination countries represented in each Price Group. To identify what price group a destination country is in, refer to Country Price Group List for International Mail (4000). The number of price groups that exist depends on the category of mail. A particular destination country may fall into different Price Groups for different categories of mail.

2235.2 Size and Weight Limitations

| Length | Height | Thickness | Weight
Minimum |  |  |  | none.
Maximum Outbound | No defined size limits as long as articles being sent can be enclosed in the mailbag as specified in the International Mail Manual. |  |  | 66 pounds¹.
Maximum Inbound | No defined size limits as long as articles being sent can be enclosed in the mailbag as specified in the UPU Convention. |  |  | 66 pounds¹.
Notes ¹ Includes the tare weight of the sack.

2235.3 Minimum Volume Requirements

| Minimum volume requirements
Outbound | None.
Inbound | None.

2235.4 Price Categories

The following price categories are available for the product specified in this section:

Outbound International Direct Sacks—M-Bags Price Categories

• M-Bags

○ Price Groups 1-9

Inbound International Direct Sacks—M-Bags Price Categories

As established by the originating foreign country conforming to Universal Postal Convention requirements.

2235.5 Optional Features

The following additional postal services may be available in conjunction with the product specified in this section:

Optional Features for Outbound International Direct Sacks—M-Bags

• International Ancillary Services (2250)

○ International Certificate of Mailing (2250.1)

Optional Features for Inbound International Direct Sacks—M-Bags

• None

2235.6 Prices

Outbound International Direct Sacks—M-Bags

The price is based on the applicable per-pound price. The per-pound price applies to the net weight (gross weight of the sack minus the tare weight of the sack) of the mail for the specific rate group.

Price Group | Weight Not Over 11 lbs. | Additional Per lb.
1 | $ 28.60 | $ 2.60
2 | 29.70 | 2.70
3 | 59.95 | 5.45
4 | 48.40 | 4.40
5 | 37.95 | 3.45
6 | 59.40 | 5.40
7 | 48.95 | 4.45
8 | 48.95 | 4.45
9 | 46.20 | 4.20

1. Same as price groups 1-9 for Single-Piece First-Class Mail International (SPFCMI).

Inbound International Direct Sacks—M-Bags

Payment is made in accordance with Part III of the Universal Postal Convention and associated UPU Letter Post Regulations. This information is available at http://www.upu.int.

2240 International Money Transfer Service

* * * * *

2240.3 Prices

International Money Order

| ($)
Per International Money Order | 4.25
Inquiry fee | 5.40

Vendor Assisted Electronic Money Transfer

| Transfer Amount: Minimum amount ($) | Transfer Amount: Maximum amount ($) | Per transfer ($)
Electronic Money Transfer | 0.00 | 750.00 | 10.00
| 750.01 | 1,500.00 | 15.00
| 1,500.01 | 2,000.00 | 20.00
Refund | 0.00 | 2,000.00 | 25.00
Change of Recipient | 0.00 | 2,000.00 | 10.00

Electronic Money Transfer [Reserved]

* * * * *

2250 International Ancillary Services

2250.1 International Certificate of Mailing

* * * * *

2250.1.2 Prices

Individual Pieces Prices

| ($)
Original certificate of mailing for listed pieces of ordinary Priority Mail International parcels | 1.15
Three or more pieces individually listed in a firm mailing book or an approved customer provided manifest (per piece) | 0.42
Each additional copy of original certificate of mailing or firm mailing bills (each copy) | 1.15

Multiple Pieces Prices

Identical pieces of ordinary Single-Piece First-Class Mail International paid with regular stamps, precanceled stamps, or meter stamps are subject to the following fees:

| ($)
Up to 1,000 pieces (one certificate for total number) | 6.50
Each additional 1,000 pieces or fraction | 0.75
Duplicate copy | 1.15

2250.2 Outbound Competitive International Registered Mail

2250.2.1 Description

b. Registered items may weigh up to 4 pounds.

c. For each registered item a mailing receipt is issued by the office of mailing and a record of delivery is maintained at the office of destination.

e. Outbound Competitive International Registered Mail service is subject to both U.S. Postal Service requirements and the prohibitions and restrictions of the destination country.

2250.2.2 Prices

| ($)
Per Piece | 11.50

2250.3 International Return Receipt

2250.3.1 Description

Outbound International Return Receipt

a. Outbound International Return Receipt service provides evidence to the mailer that an article has been received at the delivery address. It must be purchased at the time of mailing. The return receipt, which is attached to the article mailed, is signed at the point of delivery and is returned to the sender.

Inbound International Return Receipt

a. Inbound International Return Receipt service provides evidence to the mailer that an article has been received at the delivery address. A return receipt is signed at the point of delivery and is returned to the sender.

b. Inbound International return receipt service is available for insured parcels.

2250.3.2 Prices

Outbound International Return Receipt

| ($)
Per Piece | 2.30

Inbound International Return Receipt

No additional payment.

2250.4 International Restricted Delivery

2250.4.1 Description

a. International Restricted Delivery service limits who may receive an item as determined by the internal requirements of the destination country.

b. International Restricted Delivery service is available only at the time of mailing for registered Priority Mail International Flat-Rate Envelopes and Small Flat-Rate Boxes accompanied by a return receipt, subject to availability in the destination country.

2250.4.2 Prices

| ($)
Per Piece | 4.50

2250.5 International Insurance

2250.5.1 Description

Outbound International Insurance

c. Optional additional insurance may be purchased to protect against loss, damage, or missing contents for Global Express Guaranteed.

Inbound International Insurance

a. Inbound International Insurance is available for inbound air parcels from countries which offer the service on a reciprocal basis. Indemnity limits vary by country as specified in the International Mail Manual. The maximum insurance limit available to the United States is $5,000.00.

2250.5.2 Price Categories

The following price categories are available for the product specified in this section:

Outbound Price Categories

• Express Mail International Merchandise Insurance Available for Express Mail International merchandise.

• Global Express Guaranteed Insurance Available for Global Express Guaranteed items that contain merchandise or documents.

2250.5.3 Prices

Outbound International Insurance

a. Priority Mail International Insurance

b. Express Mail International Merchandise Insurance

| ($) |  | ($) | ($)
Amount of coverage:
| 0.01 | To | 100.00 | 0.00
| 100.01 | To | 200.00 | 0.80
| 200.01 | To | 500.00 | 2.25
| 500.01 | To | 1,000.00 | 3.70
| 1,000.01 | To | 1,500.00 | 5.15
| 1,500.01 | To | 2,000.00 | 6.60
| 2,000.01 | To | 2,500.00 | 8.05
| 2,500.01 | To | 3,000.00 | 9.50
| 3,000.01 | To | 3,500.00 | 10.95
| 3,500.01 | To | 4,000.00 | 12.40
| 4,000.01 | To | 4,500.00 | 13.85
| 4,500.01 | To | 5,000.00 | 15.30

c. Global Express Guaranteed Insurance

| ($) |  | ($) | ($)
Amount of coverage:
| 0.01 | To | 100.00 | 0.00
| 100.01 | To | 200.00 | 1.00
| 200.01 | To | 300.00 | 2.00
| 300.01 | To | 400.00 | 3.00
| 400.01 | To | 500.00 | 4.00
For document reconstruction insurance or non-document insurance coverage above 500.00, add 1.00 per 100.00 or fraction thereof, up to a maximum of 2,499.00 per shipment. Maximum indemnity varies by country.
| Up to |  | 2,499.00 | 24.00

Inbound International Insurance

Payment is made in accordance with Part III of the Universal Postal Convention, associated UPU Parcel Post Regulations. This information is available at http://www.upu.int. Other charges may be set under negotiated agreements.

2250.6 Custom Clearance and Delivery Fee

2250.6.1 Description

The Postal Service collects a fee on each inbound package on which customs duty or Internal Revenue tax is collected.

2250.6.2 Prices

| ($)
Per Dutiable Item | 5.35

CERTIFICATION OF GOVERNORS' VOTE IN THE GOVERNORS' DECISION NO. 10-4

I hereby certify that the Governors voted on adopting Governors' Decision No. 10-4, and that, consistent with 39 U.S.C. 3632(a), a majority of the Governors then holding office concurred in the Decision.

Dated: October 19, 2010.

Julie S. Moore, Secretary of the Board of Governors.

[FR Doc. 2010-29812 Filed 11-26-10; 8:45 am]

BILLING CODE 7710-12-P